DEPARTMENT OF AGRICULTURE

Agricultural Marketing Service

7 CFR Part 1205

[Doc. No. AMS-CN-20-0006]

Cotton Board Rules and Regulations: Adjusting Supplemental Assessment on Imports (2020 Amendments)

AGENCY: Agricultural Marketing Service, USDA.

ACTION: Direct final rule.

SUMMARY: The Agricultural Marketing Service (AMS) is amending the Cotton Board Rules and Regulations, decreasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2019.

DATES: This direct rule is effective December 4, 2020, without further action or notice, unless significant adverse comment is received by November 4, 2020. If significant adverse comment is received, AMS will publish a timely withdrawal of the amendment in the Federal Register.

ADDRESSES: Written comments may be submitted to the addresses specified below. All comments will be made available to the public. Please do not include personally identifiable information (such as name, address, or other contact information) or confidential business information that you do not want publicly disclosed. All comments may be posted on the internet and can be retrieved by most internet search engines. Comments may be submitted anonymously.

Comments, identified by AMS-CN-20-0006, may be submitted electronically through the Federal eRulemaking Portal at http://www.regulations.gov. Please follow the instructions for submitting comments. In addition, comments may be submitted by mail or hand delivery to Cotton Research and Promotion, Cotton and Tobacco Program, AMS, USDA, 100 Riverside Parkway, Suite 101, Fredericksburg, Virginia 22406. Comments should be submitted in triplicate. All comments received will be made available for public inspection at Cotton and Tobacco Program, AMS, USDA, 100 Riverside Parkway, Suite 101, Fredericksburg, Virginia 22406. A copy of this document may be found at: www.regulations.gov.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorized changes in the funding procedures for the Cotton Research and Promotion Program. These provisions provided for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2019 in the Federal Register (84 FR 55019) for the purpose of calculating assessments on imported cotton is $0.012222 per kilogram. Using the average weighted price received by U.S. farmers for Upland cotton for the calendar year 2019, this direct final rule would amend the new value of imported cotton to $0.011562 per kilogram to reflect the price received by U.S. farmers for Upland cotton during 2019.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or 0.2000 cents per pound (1/500) or $0.004409 per kg or 0.4409 cents per kg. (1/226.8).

Supplemental Assessment of 5/10 of One Percent of the Value of the Cotton Converted to Kilograms.

The 2019 calendar year weighted average price received by producers for Upland cotton is $0.649 per pound or $1.431 per kg. (0.649 × 2.2046).

Five tenths of one percent of the average price equals $0.007153 per kg. (1.431 × 0.005).

Total Assessment

The total assessment per kilogram of raw cotton is obtained by adding the $1 per bale equivalent assessment of $0.004409 per kg. and the supplemental assessment $0.007153 per kg., which equals $0.011562 per kg.

The current assessment on imported cotton is $0.012222 per kilogram of imported cotton. The revised assessment in this direct final rule is $0.011562, a decrease of $0.00066 per kilogram. This reflects the decrease in the average weighted price of Upland cotton received by U.S. farmers during the period January through December 2019.

The Import Assessment Table in section 1205.510(b)(3) of the Order indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comments during the comment period, it will publish, in a timely manner, a document in the Federal Register withdrawing this direct final rule. AMS will then address public comments in a subsequent proposed rule and final rule based on the proposed rule.

B. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action falls within a category of regulatory actions that the Office of Management and Budget (OMB) exempted from Executive Order 12866 review. Additionally, because this rule does not meet the definition of a significant regulatory action it does not trigger the requirements contained in Executive Order 13771. See OMB's Memorandum titled “Interim Guidance Implementing Section 2 of the Executive Order of January 30, 2017 titled ‘Reducing Regulation and Controlling Regulatory Costs” ' (February 2, 2017).

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR 121.201, small agricultural producers as those having annual receipts of no more than $1,000,000 and small “Other Farm Product Raw Material Merchant Wholesalers” (cotton merchants/importers) as having no more than 100 employees. The Cotton Board estimates 37,000 importers are subject to the rules and regulations issued pursuant to the Cotton Research and Promotion Order. According to the United States Census Bureau's “2016 Survey of SUSB Annual Data Tables by Establishment Industry,” most importers are considered small entities as defined by the Small Business Administration (13 CFR 121.201). This rule would only affect importers of cotton and cotton-containing products and would decrease the assessments paid by the importers under the Cotton Research and Promotion Order. The current assessment on imported cotton is $0.012222 per kilogram of imported cotton. The amended assessment would be $0.011562, which was calculated based on the 12-month weighted average of price received by U.S. cotton farmers. Section 1205.510 of the Order, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2018 (the last audited year), producer assessments totaled $49.6 million and importer assessments totaled $38.5 million. According to the Cotton Board, should the volume of cotton products imported into the U.S. remain at the same level in 2020, one could expect a decrease of assessments by approximately $1,208,433.

Imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because an amendment is required to adjust the assessments collected on imported cotton and the cotton content of imported products to be the same as those paid on domestically produced cotton.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C 7401.

2. In § 1205.510, revise paragraph (b)(2) and the table in paragraph (b)(3) to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.1562 cents per kilogram.

(3) * * *

Import Assessment Table
[Raw cotton fiber]
HTS No. | Conv. factor | Cents/kg
5007106010 | 0.2713 | 0.3136664
5007106020 | 0.2713 | 0.3136664
5007906010 | 0.2713 | 0.3136664
5007906020 | 0.2713 | 0.3136664
5112904000 | 0.1085 | 0.1254434
5112905000 | 0.1085 | 0.1254434
5112909010 | 0.1085 | 0.1254434
5112909090 | 0.1085 | 0.1254434
5201000500 | 1 | 1.1561608
5201001200 | 1 | 1.1561608
5201001400 | 1 | 1.1561608
5201001800 | 1 | 1.1561608
5201002200 | 1 | 1.1561608
5201002400 | 1 | 1.1561608
5201002800 | 1 | 1.1561608
5201003400 | 1 | 1.1561608
5201003800 | 1 | 1.1561608
5204110000 | 1.0526 | 1.2169749
5204190000 | 0.6316 | 0.7302312
5204200000 | 1.0526 | 1.2169749
5205111000 | 1 | 1.1561608
5205112000 | 1 | 1.1561608
5205121000 | 1 | 1.1561608
5205122000 | 1 | 1.1561608
5205131000 | 1 | 1.1561608
5205132000 | 1 | 1.1561608
5205141000 | 1 | 1.1561608
5205142000 | 1 | 1.1561608
5205151000 | 1 | 1.1561608
5205152000 | 1 | 1.1561608
5205210020 | 1.044 | 1.2070319
5205210090 | 1.044 | 1.2070319
5205220020 | 1.044 | 1.2070319
5205220090 | 1.044 | 1.2070319
5205230020 | 1.044 | 1.2070319
5205230090 | 1.044 | 1.2070319
5205240020 | 1.044 | 1.2070319
5205240090 | 1.044 | 1.2070319
5205260020 | 1.044 | 1.2070319
5205260090 | 1.044 | 1.2070319
5205270020 | 1.044 | 1.2070319
5205270090 | 1.044 | 1.2070319
5205280020 | 1.044 | 1.2070319
5205280090 | 1.044 | 1.2070319
5205310000 | 1 | 1.1561608
5205320000 | 1 | 1.1561608
5205330000 | 1 | 1.1561608
5205340000 | 1 | 1.1561608
5205350000 | 1 | 1.1561608
5205410020 | 1.044 | 1.2070319
5205410090 | 1.044 | 1.2070319
5205420021 | 1.044 | 1.2070319
5205420029 | 1.044 | 1.2070319
5205420090 | 1.044 | 1.2070319
5205430021 | 1.044 | 1.2070319
5205430029 | 1.044 | 1.2070319
5205430090 | 1.044 | 1.2070319
5205440021 | 1.044 | 1.2070319
5205440029 | 1.044 | 1.2070319
5205440090 | 1.044 | 1.2070319
5205460021 | 1.044 | 1.2070319
5205460029 | 1.044 | 1.2070319
5205460090 | 1.044 | 1.2070319
5205470021 | 1.044 | 1.2070319
5205470029 | 1.044 | 1.2070319
5205470090 | 1.044 | 1.2070319
5205480020 | 1.044 | 1.2070319
5205480090 | 1.044 | 1.2070319
5206110000 | 0.7368 | 0.8518593
5206120000 | 0.7368 | 0.8518593
5206130000 | 0.7368 | 0.8518593
5206140000 | 0.7368 | 0.8518593
5206150000 | 0.7368 | 0.8518593
5206210000 | 0.7692 | 0.8893189
5206220000 | 0.7692 | 0.8893189
5206230000 | 0.7692 | 0.8893189
5206240000 | 0.7692 | 0.8893189
5206250000 | 0.7692 | 0.8893189
5206310000 | 0.7368 | 0.8518593
5206320000 | 0.7368 | 0.8518593
5206330000 | 0.7368 | 0.8518593
5206340000 | 0.7368 | 0.8518593
5206350000 | 0.7368 | 0.8518593
5206410000 | 0.7692 | 0.8893189
5206420000 | 0.7692 | 0.8893189
5206430000 | 0.7692 | 0.8893189
5206440000 | 0.7692 | 0.8893189
5206450000 | 0.7692 | 0.8893189
5207100000 | 0.9474 | 1.0953468
5207900000 | 0.6316 | 0.7302312
5208112020 | 1.0852 | 1.2546657
5208112040 | 1.0852 | 1.2546657
5208112090 | 1.0852 | 1.2546657
5208114020 | 1.0852 | 1.2546657
5208114040 | 1.0852 | 1.2546657
5208114060 | 1.0852 | 1.2546657
5208114090 | 1.0852 | 1.2546657
5208116000 | 1.0852 | 1.2546657
5208118020 | 1.0852 | 1.2546657
5208118090 | 1.0852 | 1.2546657
5208124020 | 1.0852 | 1.2546657
5208124040 | 1.0852 | 1.2546657
5208124090 | 1.0852 | 1.2546657
5208126020 | 1.0852 | 1.2546657
5208126040 | 1.0852 | 1.2546657
5208126060 | 1.0852 | 1.2546657
5208126090 | 1.0852 | 1.2546657
5208128020 | 1.0852 | 1.2546657
5208128090 | 1.0852 | 1.2546657
5208130000 | 1.0852 | 1.2546657
5208192020 | 1.0852 | 1.2546657
5208192090 | 1.0852 | 1.2546657
5208194020 | 1.0852 | 1.2546657
5208194090 | 1.0852 | 1.2546657
5208196020 | 1.0852 | 1.2546657
5208196090 | 1.0852 | 1.2546657
5208198020 | 1.0852 | 1.2546657
5208198090 | 1.0852 | 1.2546657
5208212020 | 1.0852 | 1.2546657
5208212040 | 1.0852 | 1.2546657
5208212090 | 1.0852 | 1.2546657
5208214020 | 1.0852 | 1.2546657
5208214040 | 1.0852 | 1.2546657
5208214060 | 1.0852 | 1.2546657
5208214090 | 1.0852 | 1.2546657
5208216020 | 1.0852 | 1.2546657
5208216090 | 1.0852 | 1.2546657
5208224020 | 1.0852 | 1.2546657
5208224040 | 1.0852 | 1.2546657
5208224090 | 1.0852 | 1.2546657
5208226020 | 1.0852 | 1.2546657
5208226040 | 1.0852 | 1.2546657
5208226060 | 1.0852 | 1.2546657
5208226090 | 1.0852 | 1.2546657
5208228020 | 1.0852 | 1.2546657
5208228090 | 1.0852 | 1.2546657
5208230000 | 1.0852 | 1.2546657
5208292020 | 1.0852 | 1.2546657
5208292090 | 1.0852 | 1.2546657
5208294020 | 1.0852 | 1.2546657
5208294090 | 1.0852 | 1.2546657
5208296020 | 1.0852 | 1.2546657
5208296090 | 1.0852 | 1.2546657
5208298020 | 1.0852 | 1.2546657
5208298090 | 1.0852 | 1.2546657
5208312000 | 1.0852 | 1.2546657
5208314020 | 1.0852 | 1.2546657
5208314040 | 1.0852 | 1.2546657
5208314090 | 1.0852 | 1.2546657
5208316020 | 1.0852 | 1.2546657
5208316040 | 1.0852 | 1.2546657
5208316060 | 1.0852 | 1.2546657
5208316090 | 1.0852 | 1.2546657
5208318020 | 1.0852 | 1.2546657
5208318090 | 1.0852 | 1.2546657
5208321000 | 1.0852 | 1.2546657
5208323020 | 1.0852 | 1.2546657
5208323040 | 1.0852 | 1.2546657
5208323090 | 1.0852 | 1.2546657
5208324020 | 1.0852 | 1.2546657
5208324040 | 1.0852 | 1.2546657
5208324060 | 1.0852 | 1.2546657
5208324090 | 1.0852 | 1.2546657
5208325020 | 1.0852 | 1.2546657
5208325090 | 1.0852 | 1.2546657
5208330000 | 1.0852 | 1.2546657
5208392020 | 1.0852 | 1.2546657
5208392090 | 1.0852 | 1.2546657
5208394020 | 1.0852 | 1.2546657
5208394090 | 1.0852 | 1.2546657
5208396020 | 1.0852 | 1.2546657
5208396090 | 1.0852 | 1.2546657
5208398020 | 1.0852 | 1.2546657
5208398090 | 1.0852 | 1.2546657
5208412000 | 1.0852 | 1.2546657
5208414000 | 1.0852 | 1.2546657
5208416000 | 1.0852 | 1.2546657
5208418000 | 1.0852 | 1.2546657
5208421000 | 1.0852 | 1.2546657
5208423000 | 1.0852 | 1.2546657
5208424000 | 1.0852 | 1.2546657
5208425000 | 1.0852 | 1.2546657
5208430000 | 1.0852 | 1.2546657
5208492000 | 1.0852 | 1.2546657
5208494010 | 1.0852 | 1.2546657
5208494020 | 1.0852 | 1.2546657
5208494090 | 1.0852 | 1.2546657
5208496010 | 1.0852 | 1.2546657
5208496020 | 1.0852 | 1.2546657
5208496030 | 1.0852 | 1.2546657
5208496090 | 1.0852 | 1.2546657
5208498020 | 1.0852 | 1.2546657
5208498090 | 1.0852 | 1.2546657
5208512000 | 1.0852 | 1.2546657
5208514020 | 1.0852 | 1.2546657
5208514040 | 1.0852 | 1.2546657
5208514090 | 1.0852 | 1.2546657
5208516020 | 1.0852 | 1.2546657
5208516040 | 1.0852 | 1.2546657
5208516060 | 1.0852 | 1.2546657
5208516090 | 1.0852 | 1.2546657
5208518020 | 1.0852 | 1.2546657
5208518090 | 1.0852 | 1.2546657
5208521000 | 1.0852 | 1.2546657
5208523020 | 1.0852 | 1.2546657
5208523035 | 1.0852 | 1.2546657
5208523045 | 1.0852 | 1.2546657
5208523090 | 1.0852 | 1.2546657
5208524020 | 1.0852 | 1.2546657
5208524035 | 1.0852 | 1.2546657
5208524045 | 1.0852 | 1.2546657
5208524055 | 1.0852 | 1.2546657
5208524065 | 1.0852 | 1.2546657
5208524090 | 1.0852 | 1.2546657
5208525020 | 1.0852 | 1.2546657
5208525090 | 1.0852 | 1.2546657
5208591000 | 1.0852 | 1.2546657
5208592015 | 1.0852 | 1.2546657
5208592025 | 1.0852 | 1.2546657
5208592085 | 1.0852 | 1.2546657
5208592095 | 1.0852 | 1.2546657
5208594020 | 1.0852 | 1.2546657
5208594090 | 1.0852 | 1.2546657
5208596020 | 1.0852 | 1.2546657
5208596090 | 1.0852 | 1.2546657
5208598020 | 1.0852 | 1.2546657
5208598090 | 1.0852 | 1.2546657
5209110020 | 1.0309 | 1.1918862
5209110025 | 1.0309 | 1.1918862
5209110035 | 1.0309 | 1.1918862
5209110050 | 1.0309 | 1.1918862
5209110090 | 1.0309 | 1.1918862
5209120020 | 1.0309 | 1.1918862
5209120040 | 1.0309 | 1.1918862
5209190020 | 1.0309 | 1.1918862
5209190040 | 1.0309 | 1.1918862
5209190060 | 1.0309 | 1.1918862
5209190090 | 1.0309 | 1.1918862
5209210020 | 1.0309 | 1.1918862
5209210025 | 1.0309 | 1.1918862
5209210035 | 1.0309 | 1.1918862
5209210050 | 1.0309 | 1.1918862
5209210090 | 1.0309 | 1.1918862
5209220020 | 1.0309 | 1.1918862
5209220040 | 1.0309 | 1.1918862
5209290020 | 1.0309 | 1.1918862
5209290040 | 1.0309 | 1.1918862
5209290060 | 1.0309 | 1.1918862
5209290090 | 1.0309 | 1.1918862
5209313000 | 1.0309 | 1.1918862
5209316020 | 1.0309 | 1.1918862
5209316025 | 1.0309 | 1.1918862
5209316035 | 1.0309 | 1.1918862
5209316050 | 1.0309 | 1.1918862
5209316090 | 1.0309 | 1.1918862
5209320020 | 1.0309 | 1.1918862
5209320040 | 1.0309 | 1.1918862
5209390020 | 1.0309 | 1.1918862
5209390040 | 1.0309 | 1.1918862
5209390060 | 1.0309 | 1.1918862
5209390080 | 1.0309 | 1.1918862
5209390090 | 1.0309 | 1.1918862
5209413000 | 1.0309 | 1.1918862
5209416020 | 1.0309 | 1.1918862
5209416040 | 1.0309 | 1.1918862
5209420020 | 0.9767 | 1.1292223
5209420040 | 0.9767 | 1.1292223
5209420060 | 0.9767 | 1.1292223
5209420080 | 0.9767 | 1.1292223
5209430030 | 1.0309 | 1.1918862
5209430050 | 1.0309 | 1.1918862
5209490020 | 1.0309 | 1.1918862
5209490040 | 1.0309 | 1.1918862
5209490090 | 1.0309 | 1.1918862
5209513000 | 1.0309 | 1.1918862
5209516015 | 1.0852 | 1.2546657
5209516025 | 1.0852 | 1.2546657
5209516032 | 1.0852 | 1.2546657
5209516035 | 1.0852 | 1.2546657
5209516050 | 1.0852 | 1.2546657
5209516090 | 1.0852 | 1.2546657
5209520020 | 1.0852 | 1.2546657
5209520040 | 1.0852 | 1.2546657
5209590015 | 1.0852 | 1.2546657
5209590025 | 1.0852 | 1.2546657
5209590040 | 1.0852 | 1.2546657
5209590060 | 1.0852 | 1.2546657
5209590090 | 1.0852 | 1.2546657
5210114020 | 0.6511 | 0.7527763
5210114040 | 0.6511 | 0.7527763
5210114090 | 0.6511 | 0.7527763
5210116020 | 0.6511 | 0.7527763
5210116040 | 0.6511 | 0.7527763
5210116060 | 0.6511 | 0.7527763
5210116090 | 0.6511 | 0.7527763
5210118020 | 0.6511 | 0.7527763
5210118090 | 0.6511 | 0.7527763
5210191000 | 0.6511 | 0.7527763
5210192020 | 0.6511 | 0.7527763
5210192090 | 0.6511 | 0.7527763
5210194020 | 0.6511 | 0.7527763
5210194090 | 0.6511 | 0.7527763
5210196020 | 0.6511 | 0.7527763
5210196090 | 0.6511 | 0.7527763
5210198020 | 0.6511 | 0.7527763
5210198090 | 0.6511 | 0.7527763
5210214020 | 0.6511 | 0.7527763
5210214040 | 0.6511 | 0.7527763
5210214090 | 0.6511 | 0.7527763
5210216020 | 0.6511 | 0.7527763
5210216040 | 0.6511 | 0.7527763
5210216060 | 0.6511 | 0.7527763
5210216090 | 0.6511 | 0.7527763
5210218020 | 0.6511 | 0.7527763
5210218090 | 0.6511 | 0.7527763
5210291000 | 0.6511 | 0.7527763
5210292020 | 0.6511 | 0.7527763
5210292090 | 0.6511 | 0.7527763
5210294020 | 0.6511 | 0.7527763
5210294090 | 0.6511 | 0.7527763
5210296020 | 0.6511 | 0.7527763
5210296090 | 0.6511 | 0.7527763
5210298020 | 0.6511 | 0.7527763
5210298090 | 0.6511 | 0.7527763
5210314020 | 0.6511 | 0.7527763
5210314040 | 0.6511 | 0.7527763
5210314090 | 0.6511 | 0.7527763
5210316020 | 0.6511 | 0.7527763
5210316040 | 0.6511 | 0.7527763
5210316060 | 0.6511 | 0.7527763
5210316090 | 0.6511 | 0.7527763
5210318020 | 0.6511 | 0.7527763
5210318090 | 0.6511 | 0.7527763
5210320000 | 0.6511 | 0.7527763
5210392020 | 0.6511 | 0.7527763
5210392090 | 0.6511 | 0.7527763
5210394020 | 0.6511 | 0.7527763
5210394090 | 0.6511 | 0.7527763
5210396020 | 0.6511 | 0.7527763
5210396090 | 0.6511 | 0.7527763
5210398020 | 0.6511 | 0.7527763
5210398090 | 0.6511 | 0.7527763
5210414000 | 0.6511 | 0.7527763
5210416000 | 0.6511 | 0.7527763
5210418000 | 0.6511 | 0.7527763
5210491000 | 0.6511 | 0.7527763
5210492000 | 0.6511 | 0.7527763
5210494010 | 0.6511 | 0.7527763
5210494020 | 0.6511 | 0.7527763
5210494090 | 0.6511 | 0.7527763
5210496010 | 0.6511 | 0.7527763
5210496020 | 0.6511 | 0.7527763
5210496090 | 0.6511 | 0.7527763
5210498020 | 0.6511 | 0.7527763
5210498090 | 0.6511 | 0.7527763
5210514020 | 0.6511 | 0.7527763
5210514040 | 0.6511 | 0.7527763
5210514090 | 0.6511 | 0.7527763
5210516020 | 0.6511 | 0.7527763
5210516040 | 0.6511 | 0.7527763
5210516060 | 0.6511 | 0.7527763
5210516090 | 0.6511 | 0.7527763
5210518020 | 0.6511 | 0.7527763
5210518090 | 0.6511 | 0.7527763
5210591000 | 0.6511 | 0.7527763
5210592020 | 0.6511 | 0.7527763
5210592090 | 0.6511 | 0.7527763
5210594020 | 0.6511 | 0.7527763
5210594090 | 0.6511 | 0.7527763
5210596020 | 0.6511 | 0.7527763
5210596090 | 0.6511 | 0.7527763
5210598020 | 0.6511 | 0.7527763
5210598090 | 0.6511 | 0.7527763
5211110020 | 0.6511 | 0.7527763
5211110025 | 0.6511 | 0.7527763
5211110035 | 0.6511 | 0.7527763
5211110050 | 0.6511 | 0.7527763
5211110090 | 0.6511 | 0.7527763
5211120020 | 0.6511 | 0.7527763
5211120040 | 0.6511 | 0.7527763
5211190020 | 0.6511 | 0.7527763
5211190040 | 0.6511 | 0.7527763
5211190060 | 0.6511 | 0.7527763
5211190090 | 0.6511 | 0.7527763
5211202120 | 0.6511 | 0.7527763
5211202125 | 0.6511 | 0.7527763
5211202135 | 0.6511 | 0.7527763
5211202150 | 0.6511 | 0.7527763
5211202190 | 0.6511 | 0.7527763
5211202220 | 0.6511 | 0.7527763
5211202240 | 0.6511 | 0.7527763
5211202920 | 0.6511 | 0.7527763
5211202940 | 0.6511 | 0.7527763
5211202960 | 0.6511 | 0.7527763
5211202990 | 0.6511 | 0.7527763
5211310020 | 0.6511 | 0.7527763
5211310025 | 0.6511 | 0.7527763
5211310035 | 0.6511 | 0.7527763
5211310050 | 0.6511 | 0.7527763
5211310090 | 0.6511 | 0.7527763
5211320020 | 0.6511 | 0.7527763
5211320040 | 0.6511 | 0.7527763
5211390020 | 0.6511 | 0.7527763
5211390040 | 0.6511 | 0.7527763
5211390060 | 0.6511 | 0.7527763
5211390090 | 0.6511 | 0.7527763
5211410020 | 0.6511 | 0.7527763
5211410040 | 0.6511 | 0.7527763
5211420020 | 0.7054 | 0.8155558
5211420040 | 0.7054 | 0.8155558
5211420060 | 0.6511 | 0.7527763
5211420080 | 0.6511 | 0.7527763
5211430030 | 0.6511 | 0.7527763
5211430050 | 0.6511 | 0.7527763
5211490020 | 0.6511 | 0.7527763
5211490090 | 0.6511 | 0.7527763
5211510020 | 0.6511 | 0.7527763
5211510030 | 0.6511 | 0.7527763
5211510050 | 0.6511 | 0.7527763
5211510090 | 0.6511 | 0.7527763
5211520020 | 0.6511 | 0.7527763
5211520040 | 0.6511 | 0.7527763
5211590015 | 0.6511 | 0.7527763
5211590025 | 0.6511 | 0.7527763
5211590040 | 0.6511 | 0.7527763
5211590060 | 0.6511 | 0.7527763
5211590090 | 0.6511 | 0.7527763
5212111010 | 0.5845 | 0.6757760
5212111020 | 0.6231 | 0.7204038
5212116010 | 0.8681 | 1.0036632
5212116020 | 0.8681 | 1.0036632
5212116030 | 0.8681 | 1.0036632
5212116040 | 0.8681 | 1.0036632
5212116050 | 0.8681 | 1.0036632
5212116060 | 0.8681 | 1.0036632
5212116070 | 0.8681 | 1.0036632
5212116080 | 0.8681 | 1.0036632
5212116090 | 0.8681 | 1.0036632
5212121010 | 0.5845 | 0.6757760
5212121020 | 0.6231 | 0.7204038
5212126010 | 0.8681 | 1.0036632
5212126020 | 0.8681 | 1.0036632
5212126030 | 0.8681 | 1.0036632
5212126040 | 0.8681 | 1.0036632
5212126050 | 0.8681 | 1.0036632
5212126060 | 0.8681 | 1.0036632
5212126070 | 0.8681 | 1.0036632
5212126080 | 0.8681 | 1.0036632
5212126090 | 0.8681 | 1.0036632
5212131010 | 0.5845 | 0.6757760
5212131020 | 0.6231 | 0.7204038
5212136010 | 0.8681 | 1.0036632
5212136020 | 0.8681 | 1.0036632
5212136030 | 0.8681 | 1.0036632
5212136040 | 0.8681 | 1.0036632
5212136050 | 0.8681 | 1.0036632
5212136060 | 0.8681 | 1.0036632
5212136070 | 0.8681 | 1.0036632
5212136080 | 0.8681 | 1.0036632
5212136090 | 0.8681 | 1.0036632
5212141010 | 0.5845 | 0.6757760
5212141020 | 0.6231 | 0.7204038
5212146010 | 0.8681 | 1.0036632
5212146020 | 0.8681 | 1.0036632
5212146030 | 0.8681 | 1.0036632
5212146090 | 0.8681 | 1.0036632
5212151010 | 0.5845 | 0.6757760
5212151020 | 0.6231 | 0.7204038
5212156010 | 0.8681 | 1.0036632
5212156020 | 0.8681 | 1.0036632
5212156030 | 0.8681 | 1.0036632
5212156040 | 0.8681 | 1.0036632
5212156050 | 0.8681 | 1.0036632
5212156060 | 0.8681 | 1.0036632
5212156070 | 0.8681 | 1.0036632
5212156080 | 0.8681 | 1.0036632
5212156090 | 0.8681 | 1.0036632
5212211010 | 0.5845 | 0.6757760
5212211020 | 0.6231 | 0.7204038
5212216010 | 0.8681 | 1.0036632
5212216020 | 0.8681 | 1.0036632
5212216030 | 0.8681 | 1.0036632
5212216040 | 0.8681 | 1.0036632
5212216050 | 0.8681 | 1.0036632
5212216060 | 0.8681 | 1.0036632
5212216090 | 0.8681 | 1.0036632
5212221010 | 0.5845 | 0.6757760
5212221020 | 0.6231 | 0.7204038
5212226010 | 0.8681 | 1.0036632
5212226020 | 0.8681 | 1.0036632
5212226030 | 0.8681 | 1.0036632
5212226040 | 0.8681 | 1.0036632
5212226050 | 0.8681 | 1.0036632
5212226060 | 0.8681 | 1.0036632
5212226090 | 0.8681 | 1.0036632
5212231010 | 0.5845 | 0.6757760
5212231020 | 0.6231 | 0.7204038
5212236010 | 0.8681 | 1.0036632
5212236020 | 0.8681 | 1.0036632
5212236030 | 0.8681 | 1.0036632
5212236040 | 0.8681 | 1.0036632
5212236050 | 0.8681 | 1.0036632
5212236060 | 0.8681 | 1.0036632
5212236090 | 0.8681 | 1.0036632
5212241010 | 0.5845 | 0.6757760
5212241020 | 0.6231 | 0.7204038
5212246010 | 0.8681 | 1.0036632
5212246020 | 0.7054 | 0.8155558
5212246030 | 0.8681 | 1.0036632
5212246040 | 0.8681 | 1.0036632
5212246090 | 0.8681 | 1.0036632
5212251010 | 0.5845 | 0.6757760
5212251020 | 0.6231 | 0.7204038
5212256010 | 0.8681 | 1.0036632
5212256020 | 0.8681 | 1.0036632
5212256030 | 0.8681 | 1.0036632
5212256040 | 0.8681 | 1.0036632
5212256050 | 0.8681 | 1.0036632
5212256060 | 0.8681 | 1.0036632
5212256090 | 0.8681 | 1.0036632
5309213005 | 0.5426 | 0.6273329
5309213010 | 0.5426 | 0.6273329
5309213015 | 0.5426 | 0.6273329
5309213020 | 0.5426 | 0.6273329
5309214010 | 0.2713 | 0.3136664
5309214090 | 0.2713 | 0.3136664
5309293005 | 0.5426 | 0.6273329
5309293010 | 0.5426 | 0.6273329
5309293015 | 0.5426 | 0.6273329
5309293020 | 0.5426 | 0.6273329
5309294010 | 0.2713 | 0.3136664
5309294090 | 0.2713 | 0.3136664
5311003005 | 0.5426 | 0.6273329
5311003010 | 0.5426 | 0.6273329
5311003015 | 0.5426 | 0.6273329
5311003020 | 0.5426 | 0.6273329
5311004010 | 0.8681 | 1.0036632
5311004020 | 0.8681 | 1.0036632
5407810010 | 0.5426 | 0.6273329
5407810020 | 0.5426 | 0.6273329
5407810030 | 0.5426 | 0.6273329
5407810040 | 0.5426 | 0.6273329
5407810090 | 0.5426 | 0.6273329
5407820010 | 0.5426 | 0.6273329
5407820020 | 0.5426 | 0.6273329
5407820030 | 0.5426 | 0.6273329
5407820040 | 0.5426 | 0.6273329
5407820090 | 0.5426 | 0.6273329
5407830010 | 0.5426 | 0.6273329
5407830020 | 0.5426 | 0.6273329
5407830030 | 0.5426 | 0.6273329
5407830040 | 0.5426 | 0.6273329
5407830090 | 0.5426 | 0.6273329
5407840010 | 0.5426 | 0.6273329
5407840020 | 0.5426 | 0.6273329
5407840030 | 0.5426 | 0.6273329
5407840040 | 0.5426 | 0.6273329
5407840090 | 0.5426 | 0.6273329
5509210000 | 0.1053 | 0.1217437
5509220010 | 0.1053 | 0.1217437
5509220090 | 0.1053 | 0.1217437
5509530030 | 0.3158 | 0.3651156
5509530060 | 0.3158 | 0.3651156
5509620000 | 0.5263 | 0.6084874
5509920000 | 0.5263 | 0.6084874
5510300000 | 0.3684 | 0.4259296
5511200000 | 0.3158 | 0.3651156
5512110010 | 0.1085 | 0.1254434
5512110022 | 0.1085 | 0.1254434
5512110027 | 0.1085 | 0.1254434
5512110030 | 0.1085 | 0.1254434
5512110040 | 0.1085 | 0.1254434
5512110050 | 0.1085 | 0.1254434
5512110060 | 0.1085 | 0.1254434
5512110070 | 0.1085 | 0.1254434
5512110090 | 0.1085 | 0.1254434
5512190005 | 0.1085 | 0.1254434
5512190010 | 0.1085 | 0.1254434
5512190015 | 0.1085 | 0.1254434
5512190022 | 0.1085 | 0.1254434
5512190027 | 0.1085 | 0.1254434
5512190030 | 0.1085 | 0.1254434
5512190035 | 0.1085 | 0.1254434
5512190040 | 0.1085 | 0.1254434
5512190045 | 0.1085 | 0.1254434
5512190050 | 0.1085 | 0.1254434
5512190090 | 0.1085 | 0.1254434
5512210010 | 0.0326 | 0.0376908
5512210020 | 0.0326 | 0.0376908
5512210030 | 0.0326 | 0.0376908
5512210040 | 0.0326 | 0.0376908
5512210060 | 0.0326 | 0.0376908
5512210070 | 0.0326 | 0.0376908
5512210090 | 0.0326 | 0.0376908
5512290010 | 0.217 | 0.2508869
5512910010 | 0.0543 | 0.0627795
5512990005 | 0.0543 | 0.0627795
5512990010 | 0.0543 | 0.0627795
5512990015 | 0.0543 | 0.0627795
5512990020 | 0.0543 | 0.0627795
5512990025 | 0.0543 | 0.0627795
5512990030 | 0.0543 | 0.0627795
5512990035 | 0.0543 | 0.0627795
5512990040 | 0.0543 | 0.0627795
5512990045 | 0.0543 | 0.0627795
5512990090 | 0.0543 | 0.0627795
5513110020 | 0.3581 | 0.4140212
5513110040 | 0.3581 | 0.4140212
5513110060 | 0.3581 | 0.4140212
5513110090 | 0.3581 | 0.4140212
5513120000 | 0.3581 | 0.4140212
5513130020 | 0.3581 | 0.4140212
5513130040 | 0.3581 | 0.4140212
5513130090 | 0.3581 | 0.4140212
5513190010 | 0.3581 | 0.4140212
5513190020 | 0.3581 | 0.4140212
5513190030 | 0.3581 | 0.4140212
5513190040 | 0.3581 | 0.4140212
5513190050 | 0.3581 | 0.4140212
5513190060 | 0.3581 | 0.4140212
5513190090 | 0.3581 | 0.4140212
5513210020 | 0.3581 | 0.4140212
5513210040 | 0.3581 | 0.4140212
5513210060 | 0.3581 | 0.4140212
5513210090 | 0.3581 | 0.4140212
5513230121 | 0.3581 | 0.4140212
5513230141 | 0.3581 | 0.4140212
5513230191 | 0.3581 | 0.4140212
5513290010 | 0.3581 | 0.4140212
5513290020 | 0.3581 | 0.4140212
5513290030 | 0.3581 | 0.4140212
5513290040 | 0.3581 | 0.4140212
5513290050 | 0.3581 | 0.4140212
5513290060 | 0.3581 | 0.4140212
5513290090 | 0.3581 | 0.4140212
5513310000 | 0.3581 | 0.4140212
5513390111 | 0.3581 | 0.4140212
5513390115 | 0.3581 | 0.4140212
5513390191 | 0.3581 | 0.4140212
5513410020 | 0.3581 | 0.4140212
5513410040 | 0.3581 | 0.4140212
5513410060 | 0.3581 | 0.4140212
5513410090 | 0.3581 | 0.4140212
5513491000 | 0.3581 | 0.4140212
5513492020 | 0.3581 | 0.4140212
5513492040 | 0.3581 | 0.4140212
5513492090 | 0.3581 | 0.4140212
5513499010 | 0.3581 | 0.4140212
5513499020 | 0.3581 | 0.4140212
5513499030 | 0.3581 | 0.4140212
5513499040 | 0.3581 | 0.4140212
5513499050 | 0.3581 | 0.4140212
5513499060 | 0.3581 | 0.4140212
5513499090 | 0.3581 | 0.4140212
5514110020 | 0.4341 | 0.5018894
5514110030 | 0.4341 | 0.5018894
5514110050 | 0.4341 | 0.5018894
5514110090 | 0.4341 | 0.5018894
5514120020 | 0.4341 | 0.5018894
5514120040 | 0.4341 | 0.5018894
5514191020 | 0.4341 | 0.5018894
5514191040 | 0.4341 | 0.5018894
5514191090 | 0.4341 | 0.5018894
5514199010 | 0.4341 | 0.5018894
5514199020 | 0.4341 | 0.5018894
5514199030 | 0.4341 | 0.5018894
5514199040 | 0.4341 | 0.5018894
5514199090 | 0.4341 | 0.5018894
5514210020 | 0.4341 | 0.5018894
5514210030 | 0.4341 | 0.5018894
5514210050 | 0.4341 | 0.5018894
5514210090 | 0.4341 | 0.5018894
5514220020 | 0.4341 | 0.5018894
5514220040 | 0.4341 | 0.5018894
5514230020 | 0.4341 | 0.5018894
5514230040 | 0.4341 | 0.5018894
5514230090 | 0.4341 | 0.5018894
5514290010 | 0.4341 | 0.5018894
5514290020 | 0.4341 | 0.5018894
5514290030 | 0.4341 | 0.5018894
5514290040 | 0.4341 | 0.5018894
5514290090 | 0.4341 | 0.5018894
5514303100 | 0.4341 | 0.5018894
5514303210 | 0.4341 | 0.5018894
5514303215 | 0.4341 | 0.5018894
5514303280 | 0.4341 | 0.5018894
5514303310 | 0.4341 | 0.5018894
5514303390 | 0.4341 | 0.5018894
5514303910 | 0.4341 | 0.5018894
5514303920 | 0.4341 | 0.5018894
5514303990 | 0.4341 | 0.5018894
5514410020 | 0.4341 | 0.5018894
5514410030 | 0.4341 | 0.5018894
5514410050 | 0.4341 | 0.5018894
5514410090 | 0.4341 | 0.5018894
5514420020 | 0.4341 | 0.5018894
5514420040 | 0.4341 | 0.5018894
5514430020 | 0.4341 | 0.5018894
5514430040 | 0.4341 | 0.5018894
5514430090 | 0.4341 | 0.5018894
5514490010 | 0.4341 | 0.5018894
5514490020 | 0.4341 | 0.5018894
5514490030 | 0.4341 | 0.5018894
5514490040 | 0.4341 | 0.5018894
5514490090 | 0.4341 | 0.5018894
5515110005 | 0.1085 | 0.1254434
5515110010 | 0.1085 | 0.1254434
5515110015 | 0.1085 | 0.1254434
5515110020 | 0.1085 | 0.1254434
5515110025 | 0.1085 | 0.1254434
5515110030 | 0.1085 | 0.1254434
5515110035 | 0.1085 | 0.1254434
5515110040 | 0.1085 | 0.1254434
5515110045 | 0.1085 | 0.1254434
5515110090 | 0.1085 | 0.1254434
5515120010 | 0.1085 | 0.1254434
5515120022 | 0.1085 | 0.1254434
5515120027 | 0.1085 | 0.1254434
5515120030 | 0.1085 | 0.1254434
5515120040 | 0.1085 | 0.1254434
5515120090 | 0.1085 | 0.1254434
5515190005 | 0.1085 | 0.1254434
5515190010 | 0.1085 | 0.1254434
5515190015 | 0.1085 | 0.1254434
5515190020 | 0.1085 | 0.1254434
5515190025 | 0.1085 | 0.1254434
5515190030 | 0.1085 | 0.1254434
5515190035 | 0.1085 | 0.1254434
5515190040 | 0.1085 | 0.1254434
5515190045 | 0.1085 | 0.1254434
5515190090 | 0.1085 | 0.1254434
5515290005 | 0.1085 | 0.1254434
5515290010 | 0.1085 | 0.1254434
5515290015 | 0.1085 | 0.1254434
5515290020 | 0.1085 | 0.1254434
5515290025 | 0.1085 | 0.1254434
5515290030 | 0.1085 | 0.1254434
5515290035 | 0.1085 | 0.1254434
5515290040 | 0.1085 | 0.1254434
5515290045 | 0.1085 | 0.1254434
5515290090 | 0.1085 | 0.1254434
5515999005 | 0.1085 | 0.1254434
5515999010 | 0.1085 | 0.1254434
5515999015 | 0.1085 | 0.1254434
5515999020 | 0.1085 | 0.1254434
5515999025 | 0.1085 | 0.1254434
5515999030 | 0.1085 | 0.1254434
5515999035 | 0.1085 | 0.1254434
5515999040 | 0.1085 | 0.1254434
5515999045 | 0.1085 | 0.1254434
5515999090 | 0.1085 | 0.1254434
5516210010 | 0.1085 | 0.1254434
5516210020 | 0.1085 | 0.1254434
5516210030 | 0.1085 | 0.1254434
5516210040 | 0.1085 | 0.1254434
5516210090 | 0.1085 | 0.1254434
5516220010 | 0.1085 | 0.1254434
5516220020 | 0.1085 | 0.1254434
5516220030 | 0.1085 | 0.1254434
5516220040 | 0.1085 | 0.1254434
5516220090 | 0.1085 | 0.1254434
5516230010 | 0.1085 | 0.1254434
5516230020 | 0.1085 | 0.1254434
5516230030 | 0.1085 | 0.1254434
5516230040 | 0.1085 | 0.1254434
5516230090 | 0.1085 | 0.1254434
5516240010 | 0.1085 | 0.1254434
5516240020 | 0.1085 | 0.1254434
5516240030 | 0.1085 | 0.1254434
5516240040 | 0.1085 | 0.1254434
5516240085 | 0.1085 | 0.1254434
5516240095 | 0.1085 | 0.1254434
5516410010 | 0.3798 | 0.4391099
5516410022 | 0.3798 | 0.4391099
5516410027 | 0.3798 | 0.4391099
5516410030 | 0.3798 | 0.4391099
5516410040 | 0.3798 | 0.4391099
5516410050 | 0.3798 | 0.4391099
5516410060 | 0.3798 | 0.4391099
5516410070 | 0.3798 | 0.4391099
5516410090 | 0.3798 | 0.4391099
5516420010 | 0.3798 | 0.4391099
5516420022 | 0.3798 | 0.4391099
5516420027 | 0.3798 | 0.4391099
5516420030 | 0.3798 | 0.4391099
5516420040 | 0.3798 | 0.4391099
5516420050 | 0.3798 | 0.4391099
5516420060 | 0.3798 | 0.4391099
5516420070 | 0.3798 | 0.4391099
5516420090 | 0.3798 | 0.4391099
5516430010 | 0.217 | 0.2508869
5516430015 | 0.3798 | 0.4391099
5516430020 | 0.3798 | 0.4391099
5516430035 | 0.3798 | 0.4391099
5516430080 | 0.3798 | 0.4391099
5516440010 | 0.3798 | 0.4391099
5516440022 | 0.3798 | 0.4391099
5516440027 | 0.3798 | 0.4391099
5516440030 | 0.3798 | 0.4391099
5516440040 | 0.3798 | 0.4391099
5516440050 | 0.3798 | 0.4391099
5516440060 | 0.3798 | 0.4391099
5516440070 | 0.3798 | 0.4391099
5516440090 | 0.3798 | 0.4391099
5516910010 | 0.0543 | 0.0627795
5516910020 | 0.0543 | 0.0627795
5516910030 | 0.0543 | 0.0627795
5516910040 | 0.0543 | 0.0627795
5516910050 | 0.0543 | 0.0627795
5516910060 | 0.0543 | 0.0627795
5516910070 | 0.0543 | 0.0627795
5516910090 | 0.0543 | 0.0627795
5516920010 | 0.0543 | 0.0627795
5516920020 | 0.0543 | 0.0627795
5516920030 | 0.0543 | 0.0627795
5516920040 | 0.0543 | 0.0627795
5516920050 | 0.0543 | 0.0627795
5516920060 | 0.0543 | 0.0627795
5516920070 | 0.0543 | 0.0627795
5516920090 | 0.0543 | 0.0627795
5516930010 | 0.0543 | 0.0627795
5516930020 | 0.0543 | 0.0627795
5516930090 | 0.0543 | 0.0627795
5516940010 | 0.0543 | 0.0627795
5516940020 | 0.0543 | 0.0627795
5516940030 | 0.0543 | 0.0627795
5516940040 | 0.0543 | 0.0627795
5516940050 | 0.0543 | 0.0627795
5516940060 | 0.0543 | 0.0627795
5516940070 | 0.0543 | 0.0627795
5516940090 | 0.0543 | 0.0627795
5601210010 | 0.9767 | 1.1292223
5601210090 | 0.9767 | 1.1292223
5601220010 | 0.9767 | 1.1292223
5601220090 | 0.9767 | 1.1292223
5601300000 | 0.3256 | 0.3764460
5602101000 | 0.0543 | 0.0627795
5602109090 | 0.4341 | 0.5018894
5602290000 | 0.4341 | 0.5018894
5602909000 | 0.3256 | 0.3764460
5603143000 | 0.2713 | 0.3136664
5603910010 | 0.0217 | 0.0250887
5603910090 | 0.0651 | 0.0752661
5603920010 | 0.0217 | 0.0250887
5603920090 | 0.0651 | 0.0752661
5603930010 | 0.0217 | 0.0250887
5603930090 | 0.0651 | 0.0752661
5603941090 | 0.3256 | 0.3764460
5603943000 | 0.1628 | 0.1882230
5603949010 | 0.0326 | 0.0376908
5604100000 | 0.2632 | 0.3043015
5604909000 | 0.2105 | 0.2433719
5605009000 | 0.1579 | 0.1825578
5606000010 | 0.1263 | 0.1460231
5606000090 | 0.1263 | 0.1460231
5607502500 | 0.1684 | 0.1946975
5607909000 | 0.8421 | 0.9736030
5608901000 | 1.0526 | 1.2169749
5608902300 | 0.6316 | 0.7302312
5608902700 | 0.6316 | 0.7302312
5608903000 | 0.3158 | 0.3651156
5609001000 | 0.8421 | 0.9736030
5609004000 | 0.2105 | 0.2433719
5701101300 | 0.0526 | 0.0608141
5701101600 | 0.0526 | 0.0608141
5701104000 | 0.0526 | 0.0608141
5701109000 | 0.0526 | 0.0608141
5701901010 | 1 | 1.1561608
5701901020 | 1 | 1.1561608
5701901030 | 0.0526 | 0.0608141
5701901090 | 0.0526 | 0.0608141
5701902010 | 0.9474 | 1.0953468
5701902020 | 0.9474 | 1.0953468
5701902030 | 0.0526 | 0.0608141
5701902090 | 0.0526 | 0.0608141
5702101000 | 0.0447 | 0.0516804
5702109010 | 0.0447 | 0.0516804
5702109020 | 0.85 | 0.9827367
5702109030 | 0.0447 | 0.0516804
5702109090 | 0.0447 | 0.0516804
5702201000 | 0.0447 | 0.0516804
5702311000 | 0.0447 | 0.0516804
5702312000 | 0.0895 | 0.1034764
5702322000 | 0.0895 | 0.1034764
5702391000 | 0.0895 | 0.1034764
5702392010 | 0.8053 | 0.9310563
5702392090 | 0.0447 | 0.0516804
5702411000 | 0.0447 | 0.0516804
5702412000 | 0.0447 | 0.0516804
5702421000 | 0.0895 | 0.1034764
5702422020 | 0.0895 | 0.1034764
5702422080 | 0.0895 | 0.1034764
5702491020 | 0.8947 | 1.0344171
5702491080 | 0.8947 | 1.0344171
5702492000 | 0.0895 | 0.1034764
5702502000 | 0.0895 | 0.1034764
5702504000 | 0.0447 | 0.0516804
5702505200 | 0.0895 | 0.1034764
5702505600 | 0.85 | 0.9827367
5702912000 | 0.0447 | 0.0516804
5702913000 | 0.0447 | 0.0516804
5702914000 | 0.0447 | 0.0516804
5702921000 | 0.0447 | 0.0516804
5702929000 | 0.0447 | 0.0516804
5702990500 | 0.8947 | 1.0344171
5702991500 | 0.8947 | 1.0344171
5703201000 | 0.0452 | 0.0522585
5703202010 | 0.0452 | 0.0522585
5703302000 | 0.0452 | 0.0522585
5703900000 | 0.3615 | 0.4179521
5705001000 | 0.0452 | 0.0522585
5705002005 | 0.0452 | 0.0522585
5705002015 | 0.0452 | 0.0522585
5705002020 | 0.7682 | 0.8881627
5705002030 | 0.0452 | 0.0522585
5705002090 | 0.1808 | 0.2090339
5801210000 | 0.9767 | 1.1292223
5801221000 | 0.9767 | 1.1292223
5801229000 | 0.9767 | 1.1292223
5801230000 | 0.9767 | 1.1292223
5801260010 | 0.7596 | 0.8782198
5801260020 | 0.7596 | 0.8782198
5801271000 | 0.9767 | 1.1292223
5801275010 | 1.0852 | 1.2546657
5801275020 | 0.9767 | 1.1292223
5801310000 | 0.217 | 0.2508869
5801320000 | 0.217 | 0.2508869
5801330000 | 0.217 | 0.2508869
5801360010 | 0.217 | 0.2508869
5801360020 | 0.217 | 0.2508869
5802110000 | 1.0309 | 1.1918862
5802190000 | 1.0309 | 1.1918862
5802200020 | 0.1085 | 0.1254434
5802200090 | 0.3256 | 0.3764460
5802300030 | 0.4341 | 0.5018894
5802300090 | 0.1085 | 0.1254434
5803001000 | 1.0852 | 1.2546657
5803002000 | 0.8681 | 1.0036632
5803003000 | 0.8681 | 1.0036632
5803005000 | 0.3256 | 0.3764460
5804101000 | 0.4341 | 0.5018894
5804109090 | 0.2193 | 0.2535461
5804291000 | 0.8772 | 1.0141843
5804300020 | 0.3256 | 0.3764460
5805001000 | 0.1085 | 0.1254434
5805003000 | 1.0852 | 1.2546657
5806101000 | 0.8681 | 1.0036632
5806103090 | 0.217 | 0.2508869
5806200010 | 0.2577 | 0.2979426
5806200090 | 0.2577 | 0.2979426
5806310000 | 0.8681 | 1.0036632
5806393080 | 0.217 | 0.2508869
5806400000 | 0.0814 | 0.0941115
5807100510 | 0.8681 | 1.0036632
5807102010 | 0.8681 | 1.0036632
5807900510 | 0.8681 | 1.0036632
5807902010 | 0.8681 | 1.0036632
5808104000 | 0.217 | 0.2508869
5808107000 | 0.217 | 0.2508869
5808900010 | 0.4341 | 0.5018894
5810100000 | 0.3256 | 0.3764460
5810910010 | 0.7596 | 0.8782198
5810910020 | 0.7596 | 0.8782198
5810921000 | 0.217 | 0.2508869
5810929030 | 0.217 | 0.2508869
5810929050 | 0.217 | 0.2508869
5810929080 | 0.217 | 0.2508869
5811002000 | 0.8681 | 1.0036632
5901102000 | 0.5643 | 0.6524215
5901904000 | 0.8139 | 0.9409993
5903101000 | 0.4341 | 0.5018894
5903103000 | 0.1085 | 0.1254434
5903201000 | 0.4341 | 0.5018894
5903203090 | 0.1085 | 0.1254434
5903901000 | 0.4341 | 0.5018894
5903903090 | 0.1085 | 0.1254434
5904901000 | 0.0326 | 0.0376908
5905001000 | 0.1085 | 0.1254434
5905009000 | 0.1085 | 0.1254434
5906100000 | 0.4341 | 0.5018894
5906911000 | 0.4341 | 0.5018894
5906913000 | 0.1085 | 0.1254434
5906991000 | 0.4341 | 0.5018894
5906993000 | 0.1085 | 0.1254434
5907002500 | 0.3798 | 0.4391099
5907003500 | 0.3798 | 0.4391099
5907008090 | 0.3798 | 0.4391099
5908000000 | 0.7813 | 0.9033084
5909001000 | 0.6837 | 0.7904671
5909002000 | 0.4883 | 0.5645533
5910001010 | 0.3798 | 0.4391099
5910001020 | 0.3798 | 0.4391099
5910001030 | 0.3798 | 0.4391099
5910001060 | 0.3798 | 0.4391099
5910001070 | 0.3798 | 0.4391099
5910001090 | 0.6837 | 0.7904671
5910009000 | 0.5697 | 0.6586648
5911101000 | 0.1736 | 0.2007095
5911102000 | 0.0434 | 0.0501774
5911201000 | 0.4341 | 0.5018894
5911310010 | 0.4341 | 0.5018894
5911310020 | 0.4341 | 0.5018894
5911310030 | 0.4341 | 0.5018894
5911310080 | 0.4341 | 0.5018894
5911320010 | 0.4341 | 0.5018894
5911320020 | 0.4341 | 0.5018894
5911320030 | 0.4341 | 0.5018894
5911320080 | 0.4341 | 0.5018894
5911400000 | 0.5426 | 0.6273329
5911900040 | 0.3158 | 0.3651156
5911900080 | 0.2105 | 0.2433719
6001106000 | 0.1096 | 0.1267152
6001210000 | 0.9868 | 1.1408995
6001220000 | 0.1096 | 0.1267152
6001290000 | 0.1096 | 0.1267152
6001910010 | 0.8772 | 1.0141843
6001910020 | 0.8772 | 1.0141843
6001920010 | 0.0548 | 0.0633576
6001920020 | 0.0548 | 0.0633576
6001920030 | 0.0548 | 0.0633576
6001920040 | 0.0548 | 0.0633576
6001999000 | 0.1096 | 0.1267152
6002404000 | 0.7401 | 0.8556746
6002408020 | 0.1974 | 0.2282261
6002408080 | 0.1974 | 0.2282261
6002904000 | 0.7895 | 0.9127890
6002908020 | 0.1974 | 0.2282261
6002908080 | 0.1974 | 0.2282261
6003201000 | 0.8772 | 1.0141843
6003203000 | 0.8772 | 1.0141843
6003301000 | 0.1096 | 0.1267152
6003306000 | 0.1096 | 0.1267152
6003401000 | 0.1096 | 0.1267152
6003406000 | 0.1096 | 0.1267152
6003901000 | 0.1096 | 0.1267152
6003909000 | 0.1096 | 0.1267152
6004100010 | 0.2961 | 0.3423392
6004100025 | 0.2961 | 0.3423392
6004100085 | 0.2961 | 0.3423392
6004902010 | 0.2961 | 0.3423392
6004902025 | 0.2961 | 0.3423392
6004902085 | 0.2961 | 0.3423392
6004909000 | 0.2961 | 0.3423392
6005210000 | 0.7127 | 0.8239958
6005220000 | 0.7127 | 0.8239958
6005230000 | 0.7127 | 0.8239958
6005240000 | 0.7127 | 0.8239958
6005360010 | 0.1096 | 0.1267152
6005360080 | 0.1096 | 0.1267152
6005370010 | 0.1096 | 0.1267152
6005370080 | 0.1096 | 0.1267152
6005380010 | 0.1096 | 0.1267152
6005380080 | 0.1096 | 0.1267152
6005390010 | 0.1096 | 0.1267152
6005390080 | 0.1096 | 0.1267152
6005410010 | 0.1096 | 0.1267152
6005410080 | 0.1096 | 0.1267152
6005420010 | 0.1096 | 0.1267152
6005420080 | 0.1096 | 0.1267152
6005430010 | 0.1096 | 0.1267152
6005430080 | 0.1096 | 0.1267152
6005440010 | 0.1096 | 0.1267152
6005440080 | 0.1096 | 0.1267152
6005909000 | 0.1096 | 0.1267152
6006211000 | 1.0965 | 1.2677303
6006219020 | 0.7675 | 0.8873534
6006219080 | 0.7675 | 0.8873534
6006221000 | 1.0965 | 1.2677303
6006229020 | 0.7675 | 0.8873534
6006229080 | 0.7675 | 0.8873534
6006231000 | 1.0965 | 1.2677303
6006239020 | 0.7675 | 0.8873534
6006239080 | 0.7675 | 0.8873534
6006241000 | 1.0965 | 1.2677303
6006249020 | 0.7675 | 0.8873534
6006249080 | 0.7675 | 0.8873534
6006310020 | 0.3289 | 0.3802613
6006310040 | 0.3289 | 0.3802613
6006310060 | 0.3289 | 0.3802613
6006310080 | 0.3289 | 0.3802613
6006320020 | 0.3289 | 0.3802613
6006320040 | 0.3289 | 0.3802613
6006320060 | 0.3289 | 0.3802613
6006320080 | 0.3289 | 0.3802613
6006330020 | 0.3289 | 0.3802613
6006330040 | 0.3289 | 0.3802613
6006330060 | 0.3289 | 0.3802613
6006330080 | 0.3289 | 0.3802613
6006340020 | 0.3289 | 0.3802613
6006340040 | 0.3289 | 0.3802613
6006340060 | 0.3289 | 0.3802613
6006340080 | 0.3289 | 0.3802613
6006410025 | 0.3289 | 0.3802613
6006410085 | 0.3289 | 0.3802613
6006420025 | 0.3289 | 0.3802613
6006420085 | 0.3289 | 0.3802613
6006430025 | 0.3289 | 0.3802613
6006430085 | 0.3289 | 0.3802613
6006440025 | 0.3289 | 0.3802613
6006440085 | 0.3289 | 0.3802613
6006909000 | 0.1096 | 0.1267152
6101200010 | 1.02 | 1.1792840
6101200020 | 1.02 | 1.1792840
6101301000 | 0.2072 | 0.2395565
6101900500 | 0.1912 | 0.2210579
6101909010 | 0.5737 | 0.6632895
6101909030 | 0.51 | 0.5896420
6101909060 | 0.255 | 0.2948210
6102100000 | 0.255 | 0.2948210
6102200010 | 0.9562 | 1.1055210
6102200020 | 0.9562 | 1.1055210
6102300500 | 0.1785 | 0.2063747
6102909005 | 0.5737 | 0.6632895
6102909015 | 0.4462 | 0.5158790
6102909030 | 0.255 | 0.2948210
6103101000 | 0.0637 | 0.0736474
6103104000 | 0.1218 | 0.1408204
6103105000 | 0.1218 | 0.1408204
6103106010 | 0.8528 | 0.9859739
6103106015 | 0.8528 | 0.9859739
6103106030 | 0.8528 | 0.9859739
6103109010 | 0.5482 | 0.6338074
6103109020 | 0.5482 | 0.6338074
6103109030 | 0.5482 | 0.6338074
6103109040 | 0.1218 | 0.1408204
6103109050 | 0.1218 | 0.1408204
6103109080 | 0.1827 | 0.2112306
6103320000 | 0.8722 | 1.0084035
6103398010 | 0.7476 | 0.8643458
6103398030 | 0.3738 | 0.4321729
6103398060 | 0.2492 | 0.2881153
6103411010 | 0.3576 | 0.4134431
6103411020 | 0.3576 | 0.4134431
6103412000 | 0.3576 | 0.4134431
6103421020 | 0.8343 | 0.9645850
6103421035 | 0.8343 | 0.9645850
6103421040 | 0.8343 | 0.9645850
6103421050 | 0.8343 | 0.9645850
6103421065 | 0.8343 | 0.9645850
6103421070 | 0.8343 | 0.9645850
6103422010 | 0.8343 | 0.9645850
6103422015 | 0.8343 | 0.9645850
6103422025 | 0.8343 | 0.9645850
6103431520 | 0.2384 | 0.2756287
6103431535 | 0.2384 | 0.2756287
6103431540 | 0.2384 | 0.2756287
6103431550 | 0.2384 | 0.2756287
6103431565 | 0.2384 | 0.2756287
6103431570 | 0.2384 | 0.2756287
6103432020 | 0.2384 | 0.2756287
6103432025 | 0.2384 | 0.2756287
6103491020 | 0.2437 | 0.2817564
6103491060 | 0.2437 | 0.2817564
6103492000 | 0.2437 | 0.2817564
6103498010 | 0.5482 | 0.6338074
6103498014 | 0.3655 | 0.4225768
6103498024 | 0.2437 | 0.2817564
6103498026 | 0.2437 | 0.2817564
6103498034 | 0.5482 | 0.6338074
6103498038 | 0.3655 | 0.4225768
6103498060 | 0.2437 | 0.2817564
6104196010 | 0.8722 | 1.0084035
6104196020 | 0.8722 | 1.0084035
6104196030 | 0.8722 | 1.0084035
6104196040 | 0.8722 | 1.0084035
6104198010 | 0.5607 | 0.6482594
6104198020 | 0.5607 | 0.6482594
6104198030 | 0.5607 | 0.6482594
6104198040 | 0.5607 | 0.6482594
6104198060 | 0.3738 | 0.4321729
6104198090 | 0.2492 | 0.2881153
6104320000 | 0.8722 | 1.0084035
6104392010 | 0.5607 | 0.6482594
6104392030 | 0.3738 | 0.4321729
6104392090 | 0.2492 | 0.2881153
6104420010 | 0.8528 | 0.9859739
6104420020 | 0.8528 | 0.9859739
6104499010 | 0.5482 | 0.6338074
6104499030 | 0.3655 | 0.4225768
6104499060 | 0.2437 | 0.2817564
6104520010 | 0.8822 | 1.0199651
6104520020 | 0.8822 | 1.0199651
6104598010 | 0.5672 | 0.6557744
6104598030 | 0.3781 | 0.4371444
6104598090 | 0.2521 | 0.2914681
6104610010 | 0.2384 | 0.2756287
6104610020 | 0.2384 | 0.2756287
6104610030 | 0.2384 | 0.2756287
6104621010 | 0.7509 | 0.8681612
6104621020 | 0.8343 | 0.9645850
6104621030 | 0.8343 | 0.9645850
6104622006 | 0.7151 | 0.8267706
6104622011 | 0.8343 | 0.9645850
6104622016 | 0.7151 | 0.8267706
6104622021 | 0.8343 | 0.9645850
6104622026 | 0.7151 | 0.8267706
6104622028 | 0.8343 | 0.9645850
6104622030 | 0.8343 | 0.9645850
6104622050 | 0.8343 | 0.9645850
6104622060 | 0.8343 | 0.9645850
6104631020 | 0.2384 | 0.2756287
6104631030 | 0.2384 | 0.2756287
6104632006 | 0.8343 | 0.9645850
6104632011 | 0.8343 | 0.9645850
6104632016 | 0.7151 | 0.8267706
6104632021 | 0.8343 | 0.9645850
6104632026 | 0.3576 | 0.4134431
6104632028 | 0.3576 | 0.4134431
6104632030 | 0.3576 | 0.4134431
6104632050 | 0.7151 | 0.8267706
6104632060 | 0.3576 | 0.4134431
6104691000 | 0.3655 | 0.4225768
6104692030 | 0.3655 | 0.4225768
6104692060 | 0.3655 | 0.4225768
6104698010 | 0.5482 | 0.6338074
6104698014 | 0.3655 | 0.4225768
6104698020 | 0.2437 | 0.2817564
6104698022 | 0.5482 | 0.6338074
6104698026 | 0.3655 | 0.4225768
6104698038 | 0.2437 | 0.2817564
6104698040 | 0.2437 | 0.2817564
6105100010 | 0.9332 | 1.0789293
6105100020 | 0.9332 | 1.0789293
6105100030 | 0.9332 | 1.0789293
6105202010 | 0.2916 | 0.3371365
6105202020 | 0.2916 | 0.3371365
6105202030 | 0.2916 | 0.3371365
6105908010 | 0.5249 | 0.6068688
6105908030 | 0.3499 | 0.4045407
6105908060 | 0.2333 | 0.2697323
6106100010 | 0.9332 | 1.0789293
6106100020 | 0.9332 | 1.0789293
6106100030 | 0.9332 | 1.0789293
6106202010 | 0.2916 | 0.3371365
6106202020 | 0.4666 | 0.5394646
6106202030 | 0.2916 | 0.3371365
6106901500 | 0.0583 | 0.0674042
6106902510 | 0.5249 | 0.6068688
6106902530 | 0.3499 | 0.4045407
6106902550 | 0.2916 | 0.3371365
6106903010 | 0.5249 | 0.6068688
6106903030 | 0.3499 | 0.4045407
6106903040 | 0.2916 | 0.3371365
6107110010 | 1.0727 | 1.2402137
6107110020 | 1.0727 | 1.2402137
6107120010 | 0.4767 | 0.5511419
6107120020 | 0.4767 | 0.5511419
6107191000 | 0.1192 | 0.1378144
6107210010 | 0.8343 | 0.9645850
6107210020 | 0.7151 | 0.8267706
6107220010 | 0.3576 | 0.4134431
6107220015 | 0.1192 | 0.1378144
6107220025 | 0.2384 | 0.2756287
6107299000 | 0.1788 | 0.2067216
6107910030 | 1.1918 | 1.3779125
6107910040 | 1.1918 | 1.3779125
6107910090 | 0.9535 | 1.1023993
6107991030 | 0.3576 | 0.4134431
6107991040 | 0.3576 | 0.4134431
6107991090 | 0.3576 | 0.4134431
6107999000 | 0.1192 | 0.1378144
6108199010 | 1.0611 | 1.2268022
6108199030 | 0.2358 | 0.2726227
6108210010 | 1.179 | 1.3631136
6108210020 | 1.179 | 1.3631136
6108299000 | 0.3537 | 0.4089341
6108310010 | 1.0611 | 1.2268022
6108310020 | 1.0611 | 1.2268022
6108320010 | 0.2358 | 0.2726227
6108320015 | 0.2358 | 0.2726227
6108320025 | 0.2358 | 0.2726227
6108398000 | 0.3537 | 0.4089341
6108910005 | 1.179 | 1.3631136
6108910015 | 1.179 | 1.3631136
6108910025 | 1.179 | 1.3631136
6108910030 | 1.179 | 1.3631136
6108910040 | 1.179 | 1.3631136
6108920005 | 0.2358 | 0.2726227
6108920015 | 0.2358 | 0.2726227
6108920025 | 0.2358 | 0.2726227
6108920030 | 0.2358 | 0.2726227
6108920040 | 0.2358 | 0.2726227
6108999000 | 0.3537 | 0.4089341
6109100004 | 1.0022 | 1.1587044
6109100007 | 1.0022 | 1.1587044
6109100011 | 1.0022 | 1.1587044
6109100012 | 1.0022 | 1.1587044
6109100014 | 1.0022 | 1.1587044
6109100018 | 1.0022 | 1.1587044
6109100023 | 1.0022 | 1.1587044
6109100027 | 1.0022 | 1.1587044
6109100037 | 1.0022 | 1.1587044
6109100040 | 1.0022 | 1.1587044
6109100045 | 1.0022 | 1.1587044
6109100060 | 1.0022 | 1.1587044
6109100065 | 1.0022 | 1.1587044
6109100070 | 1.0022 | 1.1587044
6109901007 | 0.2948 | 0.3408362
6109901009 | 0.2948 | 0.3408362
6109901013 | 0.2948 | 0.3408362
6109901025 | 0.2948 | 0.3408362
6109901047 | 0.2948 | 0.3408362
6109901049 | 0.2948 | 0.3408362
6109901050 | 0.2948 | 0.3408362
6109901060 | 0.2948 | 0.3408362
6109901065 | 0.2948 | 0.3408362
6109901070 | 0.2948 | 0.3408362
6109901075 | 0.2948 | 0.3408362
6109901090 | 0.2948 | 0.3408362
6109908010 | 0.3499 | 0.4045407
6109908030 | 0.2333 | 0.2697323
6110201010 | 0.7476 | 0.8643458
6110201020 | 0.7476 | 0.8643458
6110201022 | 0.7476 | 0.8643458
6110201024 | 0.7476 | 0.8643458
6110201026 | 0.7476 | 0.8643458
6110201029 | 0.7476 | 0.8643458
6110201031 | 0.7476 | 0.8643458
6110201033 | 0.7476 | 0.8643458
6110202005 | 1.1214 | 1.2965187
6110202010 | 1.1214 | 1.2965187
6110202015 | 1.1214 | 1.2965187
6110202020 | 1.1214 | 1.2965187
6110202025 | 1.1214 | 1.2965187
6110202030 | 1.1214 | 1.2965187
6110202035 | 1.1214 | 1.2965187
6110202041 | 1.0965 | 1.2677303
6110202044 | 1.0965 | 1.2677303
6110202046 | 1.0965 | 1.2677303
6110202049 | 1.0965 | 1.2677303
6110202067 | 1.0965 | 1.2677303
6110202069 | 1.0965 | 1.2677303
6110202077 | 1.0965 | 1.2677303
6110202079 | 1.0965 | 1.2677303
6110909010 | 0.5607 | 0.6482594
6110909012 | 0.1246 | 0.1440576
6110909014 | 0.3738 | 0.4321729
6110909026 | 0.5607 | 0.6482594
6110909028 | 0.1869 | 0.2160865
6110909030 | 0.3738 | 0.4321729
6110909044 | 0.5607 | 0.6482594
6110909046 | 0.5607 | 0.6482594
6110909052 | 0.3738 | 0.4321729
6110909054 | 0.3738 | 0.4321729
6110909064 | 0.2492 | 0.2881153
6110909066 | 0.2492 | 0.2881153
6110909067 | 0.5607 | 0.6482594
6110909069 | 0.5607 | 0.6482594
6110909071 | 0.5607 | 0.6482594
6110909073 | 0.5607 | 0.6482594
6110909079 | 0.3738 | 0.4321729
6110909080 | 0.3738 | 0.4321729
6110909081 | 0.3738 | 0.4321729
6110909082 | 0.3738 | 0.4321729
6110909088 | 0.2492 | 0.2881153
6110909090 | 0.2492 | 0.2881153
6111201000 | 1.1918 | 1.3779125
6111202000 | 1.1918 | 1.3779125
6111203000 | 0.9535 | 1.1023993
6111204000 | 0.9535 | 1.1023993
6111205000 | 0.9535 | 1.1023993
6111206010 | 0.9535 | 1.1023993
6111206020 | 0.9535 | 1.1023993
6111206030 | 0.9535 | 1.1023993
6111206050 | 0.9535 | 1.1023993
6111206070 | 0.9535 | 1.1023993
6111301000 | 0.2384 | 0.2756287
6111302000 | 0.2384 | 0.2756287
6111303000 | 0.2384 | 0.2756287
6111304000 | 0.2384 | 0.2756287
6111305010 | 0.2384 | 0.2756287
6111305015 | 0.2384 | 0.2756287
6111305020 | 0.2384 | 0.2756287
6111305030 | 0.2384 | 0.2756287
6111305050 | 0.2384 | 0.2756287
6111305070 | 0.2384 | 0.2756287
6111901000 | 0.2384 | 0.2756287
6111902000 | 0.2384 | 0.2756287
6111903000 | 0.2384 | 0.2756287
6111904000 | 0.2384 | 0.2756287
6111905010 | 0.2384 | 0.2756287
6111905020 | 0.2384 | 0.2756287
6111905030 | 0.2384 | 0.2756287
6111905050 | 0.2384 | 0.2756287
6111905070 | 0.2384 | 0.2756287
6112110010 | 0.9535 | 1.1023993
6112110020 | 0.9535 | 1.1023993
6112110030 | 0.9535 | 1.1023993
6112110040 | 0.9535 | 1.1023993
6112110050 | 0.9535 | 1.1023993
6112110060 | 0.9535 | 1.1023993
6112120010 | 0.2384 | 0.2756287
6112120020 | 0.2384 | 0.2756287
6112120030 | 0.2384 | 0.2756287
6112120040 | 0.2384 | 0.2756287
6112120050 | 0.2384 | 0.2756287
6112120060 | 0.2384 | 0.2756287
6112191010 | 0.2492 | 0.2881153
6112191020 | 0.2492 | 0.2881153
6112191030 | 0.2492 | 0.2881153
6112191040 | 0.2492 | 0.2881153
6112191050 | 0.2492 | 0.2881153
6112191060 | 0.2492 | 0.2881153
6112201060 | 0.2492 | 0.2881153
6112201070 | 0.2492 | 0.2881153
6112201080 | 0.2492 | 0.2881153
6112201090 | 0.2492 | 0.2881153
6112202010 | 0.8722 | 1.0084035
6112202020 | 0.3738 | 0.4321729
6112202030 | 0.2492 | 0.2881153
6112310010 | 0.1192 | 0.1378144
6112310020 | 0.1192 | 0.1378144
6112390010 | 1.0727 | 1.2402137
6112410010 | 0.1192 | 0.1378144
6112410020 | 0.1192 | 0.1378144
6112410030 | 0.1192 | 0.1378144
6112410040 | 0.1192 | 0.1378144
6112490010 | 0.8939 | 1.0334921
6113001005 | 0.1246 | 0.1440576
6113001010 | 0.1246 | 0.1440576
6113001012 | 0.1246 | 0.1440576
6113009015 | 0.3489 | 0.4033845
6113009020 | 0.3489 | 0.4033845
6113009038 | 0.3489 | 0.4033845
6113009042 | 0.3489 | 0.4033845
6113009055 | 0.3489 | 0.4033845
6113009060 | 0.3489 | 0.4033845
6113009074 | 0.3489 | 0.4033845
6113009082 | 0.3489 | 0.4033845
6114200005 | 0.9747 | 1.1269099
6114200010 | 0.9747 | 1.1269099
6114200015 | 0.8528 | 0.9859739
6114200020 | 0.8528 | 0.9859739
6114200035 | 0.8528 | 0.9859739
6114200040 | 0.8528 | 0.9859739
6114200042 | 0.3655 | 0.4225768
6114200044 | 0.8528 | 0.9859739
6114200046 | 0.8528 | 0.9859739
6114200048 | 0.8528 | 0.9859739
6114200052 | 0.8528 | 0.9859739
6114200055 | 0.8528 | 0.9859739
6114200060 | 0.8528 | 0.9859739
6114301010 | 0.2437 | 0.2817564
6114301020 | 0.2437 | 0.2817564
6114302060 | 0.1218 | 0.1408204
6114303014 | 0.2437 | 0.2817564
6114303020 | 0.2437 | 0.2817564
6114303030 | 0.2437 | 0.2817564
6114303042 | 0.2437 | 0.2817564
6114303044 | 0.2437 | 0.2817564
6114303052 | 0.2437 | 0.2817564
6114303054 | 0.2437 | 0.2817564
6114303060 | 0.2437 | 0.2817564
6114303070 | 0.2437 | 0.2817564
6114909045 | 0.5482 | 0.6338074
6114909055 | 0.3655 | 0.4225768
6114909070 | 0.3655 | 0.4225768
6115100500 | 0.4386 | 0.5070921
6115101510 | 1.0965 | 1.2677303
6115103000 | 0.9868 | 1.1408995
6115106000 | 0.1096 | 0.1267152
6115298010 | 1.0965 | 1.2677303
6115309030 | 0.7675 | 0.8873534
6115956000 | 0.9868 | 1.1408995
6115959000 | 0.9868 | 1.1408995
6115966020 | 0.2193 | 0.2535461
6115991420 | 0.2193 | 0.2535461
6115991920 | 0.2193 | 0.2535461
6115999000 | 0.1096 | 0.1267152
6116101300 | 0.3463 | 0.4003785
6116101720 | 0.8079 | 0.9340623
6116104810 | 0.4444 | 0.5137979
6116105510 | 0.6464 | 0.7473423
6116107510 | 0.6464 | 0.7473423
6116109500 | 0.1616 | 0.1868356
6116920500 | 0.8079 | 0.9340623
6116920800 | 0.8079 | 0.9340623
6116926410 | 1.0388 | 1.2010198
6116926420 | 1.0388 | 1.2010198
6116926430 | 1.1542 | 1.3344408
6116926440 | 1.0388 | 1.2010198
6116927450 | 1.0388 | 1.2010198
6116927460 | 1.1542 | 1.3344408
6116927470 | 1.0388 | 1.2010198
6116928800 | 1.0388 | 1.2010198
6116929400 | 1.0388 | 1.2010198
6116938800 | 0.1154 | 0.1334210
6116939400 | 0.1154 | 0.1334210
6116994800 | 0.1154 | 0.1334210
6116995400 | 0.1154 | 0.1334210
6116999510 | 0.4617 | 0.5337994
6116999530 | 0.3463 | 0.4003785
6117106010 | 0.9234 | 1.0675989
6117106020 | 0.2308 | 0.2668419
6117808500 | 0.9234 | 1.0675989
6117808710 | 1.1542 | 1.3344408
6117808770 | 0.1731 | 0.2001314
6117809510 | 0.9234 | 1.0675989
6117809540 | 0.3463 | 0.4003785
6117809570 | 0.1731 | 0.2001314
6117909003 | 1.1542 | 1.3344408
6117909015 | 0.2308 | 0.2668419
6117909020 | 1.1542 | 1.3344408
6117909040 | 1.1542 | 1.3344408
6117909060 | 1.1542 | 1.3344408
6117909080 | 1.1542 | 1.3344408
6201121000 | 0.8981 | 1.0383480
6201122010 | 0.8482 | 0.9806556
6201122020 | 0.8482 | 0.9806556
6201122025 | 0.9979 | 1.1537329
6201122035 | 0.9979 | 1.1537329
6201122050 | 0.6486 | 0.7498859
6201122060 | 0.6486 | 0.7498859
6201134015 | 0.1996 | 0.2307697
6201134020 | 0.1996 | 0.2307697
6201134030 | 0.2495 | 0.2884621
6201134040 | 0.2495 | 0.2884621
6201199010 | 0.5613 | 0.6489531
6201199030 | 0.3742 | 0.4326354
6201199060 | 0.3742 | 0.4326354
6201920500 | 0.8779 | 1.0149936
6201921700 | 1.0974 | 1.2687709
6201921905 | 0.9754 | 1.1277193
6201921910 | 0.9754 | 1.1277193
6201921921 | 1.2193 | 1.4097069
6201921931 | 1.2193 | 1.4097069
6201921941 | 1.2193 | 1.4097069
6201921951 | 0.9754 | 1.1277193
6201921961 | 0.9754 | 1.1277193
6201923000 | 0.8779 | 1.0149936
6201923500 | 1.0974 | 1.2687709
6201924505 | 0.9754 | 1.1277193
6201924510 | 0.9754 | 1.1277193
6201924521 | 1.2193 | 1.4097069
6201924531 | 1.2193 | 1.4097069
6201924541 | 1.2193 | 1.4097069
6201924551 | 0.9754 | 1.1277193
6201924561 | 0.9754 | 1.1277193
6201931500 | 0.2926 | 0.3382927
6201931810 | 0.2439 | 0.2819876
6201931820 | 0.2439 | 0.2819876
6201934911 | 0.2439 | 0.2819876
6201934921 | 0.2439 | 0.2819876
6201935000 | 0.2926 | 0.3382927
6201935210 | 0.2439 | 0.2819876
6201935220 | 0.2439 | 0.2819876
6201936511 | 0.2439 | 0.2819876
6201936521 | 0.2439 | 0.2819876
6201991510 | 0.5487 | 0.6343854
6201991530 | 0.3658 | 0.4229236
6201991560 | 0.2439 | 0.2819876
6201998010 | 0.5487 | 0.6343854
6201998030 | 0.3658 | 0.4229236
6201998060 | 0.2439 | 0.2819876
6202121000 | 0.8879 | 1.0265552
6202122010 | 1.0482 | 1.2118878
6202122020 | 1.0482 | 1.2118878
6202122025 | 1.2332 | 1.4257775
6202122035 | 1.2332 | 1.4257775
6202122050 | 0.8016 | 0.9267785
6202122060 | 0.8016 | 0.9267785
6202134005 | 0.2524 | 0.2918150
6202134010 | 0.2524 | 0.2918150
6202134020 | 0.3155 | 0.3647687
6202134030 | 0.3155 | 0.3647687
6202199010 | 0.5678 | 0.6564681
6202199030 | 0.3786 | 0.4377225
6202199060 | 0.2524 | 0.2918150
6202920300 | 0.9865 | 1.1405526
6202920500 | 0.9865 | 1.1405526
6202921210 | 0.9865 | 1.1405526
6202921220 | 0.9865 | 1.1405526
6202921226 | 1.2332 | 1.4257775
6202921231 | 1.2332 | 1.4257775
6202921261 | 0.9865 | 1.1405526
6202921271 | 0.9865 | 1.1405526
6202922500 | 0.9865 | 1.1405526
6202923000 | 0.9865 | 1.1405526
6202929010 | 0.9865 | 1.1405526
6202929020 | 0.9865 | 1.1405526
6202929026 | 1.2332 | 1.4257775
6202929031 | 1.2332 | 1.4257775
6202929061 | 0.9865 | 1.1405526
6202929071 | 0.9865 | 1.1405526
6202930100 | 0.296 | 0.3422236
6202930310 | 0.2466 | 0.2851093
6202930320 | 0.2466 | 0.2851093
6202930911 | 0.2466 | 0.2851093
6202930921 | 0.2466 | 0.2851093
6202931500 | 0.296 | 0.3422236
6202932510 | 0.2466 | 0.2851093
6202932520 | 0.2466 | 0.2851093
6202935511 | 0.2466 | 0.2851093
6202935521 | 0.2466 | 0.2851093
6202991511 | 0.5549 | 0.6415536
6202991531 | 0.37 | 0.4277795
6202991561 | 0.2466 | 0.2851093
6202998011 | 0.5549 | 0.6415536
6202998031 | 0.37 | 0.4277795
6202998061 | 0.2466 | 0.2851093
6203122010 | 0.1233 | 0.1425546
6203122020 | 0.1233 | 0.1425546
6203191010 | 0.9865 | 1.1405526
6203191020 | 0.9865 | 1.1405526
6203191030 | 0.9865 | 1.1405526
6203199010 | 0.5549 | 0.6415536
6203199020 | 0.5549 | 0.6415536
6203199030 | 0.5549 | 0.6415536
6203199050 | 0.37 | 0.4277795
6203199080 | 0.2466 | 0.2851093
6203221000 | 1.2332 | 1.4257775
6203321000 | 0.6782 | 0.7841083
6203322010 | 1.1715 | 1.3544424
6203322020 | 1.1715 | 1.3544424
6203322030 | 1.1715 | 1.3544424
6203322040 | 1.1715 | 1.3544424
6203322050 | 1.1715 | 1.3544424
6203332010 | 0.1233 | 0.1425546
6203332020 | 0.1233 | 0.1425546
6203392010 | 0.1233 | 0.1425546
6203392020 | 0.1233 | 0.1425546
6203399010 | 0.5549 | 0.6415536
6203399030 | 0.37 | 0.4277795
6203399060 | 0.2466 | 0.2851093
6203420300 | 1.0616 | 1.2273803
6203420505 | 0.7077 | 0.8182150
6203420510 | 0.9436 | 1.0909533
6203420525 | 0.9436 | 1.0909533
6203420550 | 0.9436 | 1.0909533
6203420590 | 0.9436 | 1.0909533
6203420703 | 1.0616 | 1.2273803
6203420706 | 1.1796 | 1.3638073
6203420711 | 1.1796 | 1.3638073
6203420716 | 0.9436 | 1.0909533
6203420721 | 1.1796 | 1.3638073
6203420726 | 1.1796 | 1.3638073
6203420731 | 1.1796 | 1.3638073
6203420736 | 1.1796 | 1.3638073
6203420741 | 0.9436 | 1.0909533
6203420746 | 0.9436 | 1.0909533
6203420751 | 0.8752 | 1.0118719
6203420756 | 0.8752 | 1.0118719
6203420761 | 0.8752 | 1.0118719
6203421700 | 1.0616 | 1.2273803
6203422505 | 0.7077 | 0.8182150
6203422510 | 0.9436 | 1.0909533
6203422525 | 0.9436 | 1.0909533
6203422550 | 0.9436 | 1.0909533
6203422590 | 0.9436 | 1.0909533
6203424503 | 1.0616 | 1.2273803
6203424506 | 1.1796 | 1.3638073
6203424511 | 1.1796 | 1.3638073
6203424516 | 0.9436 | 1.0909533
6203424521 | 1.1796 | 1.3638073
6203424526 | 1.1796 | 1.3638073
6203424531 | 1.1796 | 1.3638073
6203424536 | 1.1796 | 1.3638073
6203424541 | 0.9436 | 1.0909533
6203424546 | 0.9436 | 1.0909533
6203424551 | 0.8752 | 1.0118719
6203424556 | 0.8752 | 1.0118719
6203424561 | 0.8752 | 1.0118719
6203430100 | 0.1887 | 0.2181675
6203430300 | 0.118 | 0.1364270
6203430505 | 0.118 | 0.1364270
6203430510 | 0.2359 | 0.2727383
6203430525 | 0.2359 | 0.2727383
6203430550 | 0.2359 | 0.2727383
6203430590 | 0.2359 | 0.2727383
6203431110 | 0.059 | 0.0682135
6203431190 | 0.059 | 0.0682135
6203431310 | 0.1167 | 0.1349240
6203431315 | 0.1167 | 0.1349240
6203431320 | 0.1167 | 0.1349240
6203431330 | 0.1167 | 0.1349240
6203431335 | 0.1167 | 0.1349240
6203431340 | 0.1167 | 0.1349240
6203434500 | 0.1887 | 0.2181675
6203435500 | 0.118 | 0.1364270
6203436005 | 0.118 | 0.1364270
6203436010 | 0.2359 | 0.2727383
6203436025 | 0.2359 | 0.2727383
6203436050 | 0.2359 | 0.2727383
6203436090 | 0.2359 | 0.2727383
6203436500 | 0.4128 | 0.4772632
6203437510 | 0.059 | 0.0682135
6203437590 | 0.059 | 0.0682135
6203439010 | 0.1167 | 0.1349240
6203439015 | 0.1167 | 0.1349240
6203439020 | 0.1167 | 0.1349240
6203439030 | 0.1167 | 0.1349240
6203439035 | 0.1167 | 0.1349240
6203439040 | 0.1167 | 0.1349240
6203490105 | 0.118 | 0.1364270
6203490110 | 0.2359 | 0.2727383
6203490125 | 0.2359 | 0.2727383
6203490150 | 0.2359 | 0.2727383
6203490190 | 0.2359 | 0.2727383
6203490515 | 0.2359 | 0.2727383
6203490520 | 0.2359 | 0.2727383
6203490530 | 0.118 | 0.1364270
6203490545 | 0.118 | 0.1364270
6203490550 | 0.118 | 0.1364270
6203490560 | 0.118 | 0.1364270
6203490920 | 0.5308 | 0.6136902
6203490930 | 0.3539 | 0.4091653
6203490945 | 0.2359 | 0.2727383
6203492505 | 0.118 | 0.1364270
6203492510 | 0.2359 | 0.2727383
6203492525 | 0.2359 | 0.2727383
6203492550 | 0.2359 | 0.2727383
6203492590 | 0.2359 | 0.2727383
6203493500 | 0.4128 | 0.4772632
6203495015 | 0.2359 | 0.2727383
6203495020 | 0.2359 | 0.2727383
6203495030 | 0.118 | 0.1364270
6203495045 | 0.118 | 0.1364270
6203495050 | 0.118 | 0.1364270
6203495060 | 0.118 | 0.1364270
6203499020 | 0.5308 | 0.6136902
6203499030 | 0.3539 | 0.4091653
6203499045 | 0.2359 | 0.2727383
6204110000 | 0.0617 | 0.0713351
6204120010 | 0.9865 | 1.1405526
6204120020 | 0.9865 | 1.1405526
6204120030 | 0.9865 | 1.1405526
6204120040 | 0.9865 | 1.1405526
6204132010 | 0.1233 | 0.1425546
6204132020 | 0.1233 | 0.1425546
6204192000 | 0.1233 | 0.1425546
6204198010 | 0.5549 | 0.6415536
6204198020 | 0.5549 | 0.6415536
6204198030 | 0.5549 | 0.6415536
6204198040 | 0.5549 | 0.6415536
6204198060 | 0.3083 | 0.3564444
6204198090 | 0.2466 | 0.2851093
6204221000 | 1.2332 | 1.4257775
6204321000 | 0.6782 | 0.7841083
6204322010 | 1.1715 | 1.3544424
6204322020 | 1.1715 | 1.3544424
6204322030 | 0.9865 | 1.1405526
6204322040 | 0.9865 | 1.1405526
6204398010 | 0.5549 | 0.6415536
6204398030 | 0.3083 | 0.3564444
6204412010 | 0.0603 | 0.0697165
6204412020 | 0.0603 | 0.0697165
6204421000 | 1.2058 | 1.3940987
6204422000 | 0.6632 | 0.7667658
6204423010 | 1.2058 | 1.3940987
6204423020 | 1.2058 | 1.3940987
6204423030 | 0.9043 | 1.0455162
6204423040 | 0.9043 | 1.0455162
6204423050 | 0.9043 | 1.0455162
6204423060 | 0.9043 | 1.0455162
6204431000 | 0.4823 | 0.5576164
6204432000 | 0.0603 | 0.0697165
6204442000 | 0.4316 | 0.4989990
6204495010 | 0.5549 | 0.6415536
6204495030 | 0.2466 | 0.2851093
6204510010 | 0.0631 | 0.0729537
6204510020 | 0.0631 | 0.0729537
6204521000 | 1.2618 | 1.4588437
6204522010 | 1.1988 | 1.3860056
6204522020 | 1.1988 | 1.3860056
6204522030 | 1.1988 | 1.3860056
6204522040 | 1.1988 | 1.3860056
6204522070 | 1.0095 | 1.1671443
6204522080 | 1.0095 | 1.1671443
6204531000 | 0.4416 | 0.5105606
6204532010 | 0.0631 | 0.0729537
6204532020 | 0.0631 | 0.0729537
6204533010 | 0.2524 | 0.2918150
6204533020 | 0.2524 | 0.2918150
6204591000 | 0.4416 | 0.5105606
6204594010 | 0.5678 | 0.6564681
6204594030 | 0.2524 | 0.2918150
6204594060 | 0.2524 | 0.2918150
6204610510 | 0.059 | 0.0682135
6204610520 | 0.059 | 0.0682135
6204611510 | 0.059 | 0.0682135
6204611520 | 0.059 | 0.0682135
6204611530 | 0.059 | 0.0682135
6204611540 | 0.118 | 0.1364270
6204616010 | 0.059 | 0.0682135
6204616020 | 0.059 | 0.0682135
6204618010 | 0.059 | 0.0682135
6204618020 | 0.059 | 0.0682135
6204618030 | 0.059 | 0.0682135
6204618040 | 0.118 | 0.1364270
6204620300 | 0.8681 | 1.0036632
6204620505 | 0.7077 | 0.8182150
6204620510 | 0.9436 | 1.0909533
6204620525 | 0.9436 | 1.0909533
6204620550 | 0.9436 | 1.0909533
6204621503 | 1.0616 | 1.2273803
6204621506 | 1.1796 | 1.3638073
6204621511 | 1.1796 | 1.3638073
6204621521 | 0.9436 | 1.0909533
6204621526 | 1.1796 | 1.3638073
6204621531 | 1.1796 | 1.3638073
6204621536 | 1.1796 | 1.3638073
6204621541 | 1.1796 | 1.3638073
6204621546 | 0.9436 | 1.0909533
6204621551 | 0.9436 | 1.0909533
6204621556 | 0.9335 | 1.0792761
6204621561 | 0.9335 | 1.0792761
6204621566 | 0.9335 | 1.0792761
6204625000 | 0.8681 | 1.0036632
6204626005 | 0.7077 | 0.8182150
6204626010 | 0.9436 | 1.0909533
6204626025 | 0.9436 | 1.0909533
6204626050 | 0.9436 | 1.0909533
6204627000 | 1.1796 | 1.3638073
6204628003 | 1.0616 | 1.2273803
6204628006 | 1.1796 | 1.3638073
6204628011 | 1.1796 | 1.3638073
6204628021 | 0.9436 | 1.0909533
6204628026 | 1.1796 | 1.3638073
6204628031 | 1.1796 | 1.3638073
6204628036 | 1.1796 | 1.3638073
6204628041 | 1.1796 | 1.3638073
6204628046 | 0.9436 | 1.0909533
6204628051 | 0.9436 | 1.0909533
6204628056 | 0.9335 | 1.0792761
6204628061 | 0.9335 | 1.0792761
6204628066 | 0.9335 | 1.0792761
6204630100 | 0.2019 | 0.2334289
6204630200 | 0.118 | 0.1364270
6204630305 | 0.118 | 0.1364270
6204630310 | 0.2359 | 0.2727383
6204630325 | 0.2359 | 0.2727383
6204630350 | 0.2359 | 0.2727383
6204630810 | 0.059 | 0.0682135
6204630820 | 0.059 | 0.0682135
6204630910 | 0.0603 | 0.0697165
6204630990 | 0.0603 | 0.0697165
6204631110 | 0.2412 | 0.2788660
6204631125 | 0.2412 | 0.2788660
6204631130 | 0.2412 | 0.2788660
6204631132 | 0.2309 | 0.2669575
6204631135 | 0.2309 | 0.2669575
6204631140 | 0.2309 | 0.2669575
6204635000 | 0.2019 | 0.2334289
6204635500 | 0.118 | 0.1364270
6204636005 | 0.118 | 0.1364270
6204636010 | 0.2359 | 0.2727383
6204636025 | 0.2359 | 0.2727383
6204636050 | 0.2359 | 0.2727383
6204636500 | 0.4718 | 0.5454767
6204637010 | 0.059 | 0.0682135
6204637020 | 0.059 | 0.0682135
6204637510 | 0.0603 | 0.0697165
6204637590 | 0.0603 | 0.0697165
6204639010 | 0.2412 | 0.2788660
6204639025 | 0.2412 | 0.2788660
6204639030 | 0.2412 | 0.2788660
6204639032 | 0.2309 | 0.2669575
6204639035 | 0.2309 | 0.2669575
6204639040 | 0.2309 | 0.2669575
6204690105 | 0.118 | 0.1364270
6204690110 | 0.2359 | 0.2727383
6204690110 | 0.2359 | 0.2727383
6204690125 | 0.2359 | 0.2727383
6204690150 | 0.2359 | 0.2727383
6204690210 | 0.059 | 0.0682135
6204690220 | 0.059 | 0.0682135
6204690230 | 0.059 | 0.0682135
6204690310 | 0.2359 | 0.2727383
6204690320 | 0.2359 | 0.2727383
6204690330 | 0.2359 | 0.2727383
6204690340 | 0.2309 | 0.2669575
6204690350 | 0.2309 | 0.2669575
6204690360 | 0.2309 | 0.2669575
6204690510 | 0.5308 | 0.6136902
6204690530 | 0.2359 | 0.2727383
6204690570 | 0.3539 | 0.4091653
6204690610 | 0.5308 | 0.6136902
6204690630 | 0.2359 | 0.2727383
6204690644 | 0.2359 | 0.2727383
6204690646 | 0.2359 | 0.2727383
6204690650 | 0.3539 | 0.4091653
6204691505 | 0.118 | 0.1364270
6204691510 | 0.2359 | 0.2727383
6204691525 | 0.2359 | 0.2727383
6204691525 | 0.2359 | 0.2727383
6204691550 | 0.2359 | 0.2727383
6204692210 | 0.059 | 0.0682135
6204692220 | 0.059 | 0.0682135
6204692230 | 0.059 | 0.0682135
6204692810 | 0.2359 | 0.2727383
6204692820 | 0.2359 | 0.2727383
6204692830 | 0.2359 | 0.2727383
6204692840 | 0.2309 | 0.2669575
6204692850 | 0.2309 | 0.2669575
6204692860 | 0.2309 | 0.2669575
6204696510 | 0.5308 | 0.6136902
6204696530 | 0.2359 | 0.2727383
6204696570 | 0.3539 | 0.4091653
6204698010 | 0.5308 | 0.6136902
6204698030 | 0.2359 | 0.2727383
6204698044 | 0.2359 | 0.2727383
6204698046 | 0.2359 | 0.2727383
6204698050 | 0.3539 | 0.4091653
6205201000 | 1.1796 | 1.3638073
6205202003 | 0.9436 | 1.0909533
6205202016 | 0.9436 | 1.0909533
6205202021 | 0.9436 | 1.0909533
6205202026 | 0.9436 | 1.0909533
6205202031 | 0.9436 | 1.0909533
6205202036 | 1.0616 | 1.2273803
6205202041 | 1.0616 | 1.2273803
6205202044 | 1.0616 | 1.2273803
6205202047 | 0.9436 | 1.0909533
6205202051 | 0.9436 | 1.0909533
6205202056 | 0.9436 | 1.0909533
6205202061 | 0.9436 | 1.0909533
6205202066 | 0.9436 | 1.0909533
6205202071 | 0.9436 | 1.0909533
6205202076 | 0.9436 | 1.0909533
6205301000 | 0.4128 | 0.4772632
6205302010 | 0.2949 | 0.3409518
6205302020 | 0.2949 | 0.3409518
6205302030 | 0.2949 | 0.3409518
6205302040 | 0.2949 | 0.3409518
6205302050 | 0.2949 | 0.3409518
6205302055 | 0.2949 | 0.3409518
6205302060 | 0.2949 | 0.3409518
6205302070 | 0.2949 | 0.3409518
6205302075 | 0.2949 | 0.3409518
6205302080 | 0.2949 | 0.3409518
6205900710 | 0.118 | 0.1364270
6205900720 | 0.118 | 0.1364270
6205901000 | 0.2359 | 0.2727383
6205903010 | 0.5308 | 0.6136902
6205903030 | 0.2359 | 0.2727383
6205903050 | 0.1769 | 0.2045248
6205904010 | 0.5308 | 0.6136902
6205904030 | 0.2359 | 0.2727383
6205904040 | 0.2359 | 0.2727383
6206100010 | 0.5308 | 0.6136902
6206100030 | 0.2359 | 0.2727383
6206100040 | 0.118 | 0.1364270
6206100050 | 0.2359 | 0.2727383
6206203010 | 0.059 | 0.0682135
6206203020 | 0.059 | 0.0682135
6206301000 | 1.1796 | 1.3638073
6206302000 | 0.6488 | 0.7501171
6206303003 | 0.9436 | 1.0909533
6206303011 | 0.9436 | 1.0909533
6206303021 | 0.9436 | 1.0909533
6206303031 | 0.9436 | 1.0909533
6206303041 | 0.9436 | 1.0909533
6206303051 | 0.9436 | 1.0909533
6206303061 | 0.9436 | 1.0909533
6206401000 | 0.4128 | 0.4772632
6206403010 | 0.2949 | 0.3409518
6206403020 | 0.2949 | 0.3409518
6206403025 | 0.2949 | 0.3409518
6206403030 | 0.2949 | 0.3409518
6206403040 | 0.2949 | 0.3409518
6206403050 | 0.2949 | 0.3409518
6206900010 | 0.5308 | 0.6136902
6206900030 | 0.2359 | 0.2727383
6206900040 | 0.1769 | 0.2045248
6207110000 | 1.0281 | 1.1886489
6207199010 | 0.3427 | 0.3962163
6207199030 | 0.4569 | 0.5282499
6207210010 | 1.0502 | 1.2142001
6207210020 | 1.0502 | 1.2142001
6207210030 | 1.0502 | 1.2142001
6207210040 | 1.0502 | 1.2142001
6207220000 | 0.3501 | 0.4047719
6207291000 | 0.1167 | 0.1349240
6207299030 | 0.1167 | 0.1349240
6207911000 | 1.0852 | 1.2546657
6207913010 | 1.0852 | 1.2546657
6207913020 | 1.0852 | 1.2546657
6207997520 | 0.2412 | 0.2788660
6207998510 | 0.2412 | 0.2788660
6207998520 | 0.2412 | 0.2788660
6208110000 | 0.2412 | 0.2788660
6208192000 | 1.0852 | 1.2546657
6208195000 | 0.1206 | 0.1394330
6208199000 | 0.2412 | 0.2788660
6208210010 | 1.0026 | 1.1591668
6208210020 | 1.0026 | 1.1591668
6208210030 | 1.0026 | 1.1591668
6208220000 | 0.118 | 0.1364270
6208299030 | 0.2359 | 0.2727383
6208911010 | 1.0852 | 1.2546657
6208911020 | 1.0852 | 1.2546657
6208913010 | 1.0852 | 1.2546657
6208913020 | 1.0852 | 1.2546657
6208920010 | 0.1206 | 0.1394330
6208920020 | 0.1206 | 0.1394330
6208920030 | 0.1206 | 0.1394330
6208920040 | 0.1206 | 0.1394330
6208992010 | 0.0603 | 0.0697165
6208992020 | 0.0603 | 0.0697165
6208995010 | 0.2412 | 0.2788660
6208995020 | 0.2412 | 0.2788660
6208998010 | 0.2412 | 0.2788660
6208998020 | 0.2412 | 0.2788660
6209201000 | 1.0967 | 1.2679616
6209202000 | 1.039 | 1.2012511
6209203000 | 0.9236 | 1.0678301
6209205030 | 0.9236 | 1.0678301
6209205035 | 0.9236 | 1.0678301
6209205045 | 0.9236 | 1.0678301
6209205050 | 0.9236 | 1.0678301
6209301000 | 0.2917 | 0.3372521
6209302000 | 0.2917 | 0.3372521
6209303010 | 0.2334 | 0.2698479
6209303020 | 0.2334 | 0.2698479
6209303030 | 0.2334 | 0.2698479
6209303040 | 0.2334 | 0.2698479
6209900500 | 0.1154 | 0.1334210
6209901000 | 0.2917 | 0.3372521
6209902000 | 0.2917 | 0.3372521
6209903010 | 0.2917 | 0.3372521
6209903015 | 0.2917 | 0.3372521
6209903020 | 0.2917 | 0.3372521
6209903030 | 0.2917 | 0.3372521
6209903040 | 0.2917 | 0.3372521
6210109010 | 0.217 | 0.2508869
6210109040 | 0.217 | 0.2508869
6210203000 | 0.0362 | 0.0418530
6210205000 | 0.0844 | 0.0975800
6210207000 | 0.1809 | 0.2091495
6210303000 | 0.0362 | 0.0418530
6210305000 | 0.0844 | 0.0975800
6210307000 | 0.0362 | 0.0418530
6210309020 | 0.422 | 0.4878999
6210401500 | 0.037 | 0.0427779
6210402520 | 0.4316 | 0.4989990
6210402531 | 0.0863 | 0.0997767
6210402539 | 0.0863 | 0.0997767
6210402540 | 0.4316 | 0.4989990
6210402550 | 0.4316 | 0.4989990
6210402800 | 0.111 | 0.1283338
6210402925 | 0.111 | 0.1283338
6210402933 | 0.111 | 0.1283338
6210402945 | 0.111 | 0.1283338
6210402960 | 0.111 | 0.1283338
6210403500 | 0.037 | 0.0427779
6210405520 | 0.4316 | 0.4989990
6210405531 | 0.0863 | 0.0997767
6210405539 | 0.0863 | 0.0997767
6210405540 | 0.4316 | 0.4989990
6210405550 | 0.4316 | 0.4989990
6210407500 | 0.111 | 0.1283338
6210408025 | 0.111 | 0.1283338
6210408033 | 0.111 | 0.1283338
6210408045 | 0.111 | 0.1283338
6210408060 | 0.111 | 0.1283338
6210500300 | 0.037 | 0.0427779
6210500520 | 0.0863 | 0.0997767
6210500531 | 0.0863 | 0.0997767
6210500539 | 0.0863 | 0.0997767
6210500540 | 0.0863 | 0.0997767
6210500555 | 0.0863 | 0.0997767
6210501200 | 0.4316 | 0.4989990
6210502250 | 0.148 | 0.1711118
6210502260 | 0.148 | 0.1711118
6210502270 | 0.148 | 0.1711118
6210502290 | 0.148 | 0.1711118
6210503500 | 0.037 | 0.0427779
6210505520 | 0.0863 | 0.0997767
6210505531 | 0.0863 | 0.0997767
6210505539 | 0.0863 | 0.0997767
6210505540 | 0.0863 | 0.0997767
6210505555 | 0.0863 | 0.0997767
6210507500 | 0.4316 | 0.4989990
6210508050 | 0.148 | 0.1711118
6210508060 | 0.148 | 0.1711118
6210508070 | 0.148 | 0.1711118
6210508090 | 0.148 | 0.1711118
6211111010 | 0.1206 | 0.1394330
6211111020 | 0.1206 | 0.1394330
6211118010 | 1.0852 | 1.2546657
6211118020 | 1.0852 | 1.2546657
6211118040 | 0.2412 | 0.2788660
6211121010 | 0.0603 | 0.0697165
6211121020 | 0.0603 | 0.0697165
6211128010 | 1.0852 | 1.2546657
6211128020 | 1.0852 | 1.2546657
6211128030 | 0.6029 | 0.6970494
6211200410 | 0.7717 | 0.8922093
6211200420 | 0.0965 | 0.1115695
6211200430 | 0.7717 | 0.8922093
6211200440 | 0.0965 | 0.1115695
6211200810 | 0.3858 | 0.4460468
6211200820 | 0.3858 | 0.4460468
6211201510 | 0.7615 | 0.8804165
6211201515 | 0.2343 | 0.2708885
6211201520 | 0.6443 | 0.7449144
6211201525 | 0.2929 | 0.3386395
6211201530 | 0.7615 | 0.8804165
6211201535 | 0.3515 | 0.4063905
6211201540 | 0.7615 | 0.8804165
6211201545 | 0.2929 | 0.3386395
6211201550 | 0.7615 | 0.8804165
6211201555 | 0.41 | 0.4740259
6211201560 | 0.7615 | 0.8804165
6211201565 | 0.2343 | 0.2708885
6211202400 | 0.1233 | 0.1425546
6211202810 | 0.8016 | 0.9267785
6211202820 | 0.2466 | 0.2851093
6211202830 | 0.3083 | 0.3564444
6211203400 | 0.1233 | 0.1425546
6211203810 | 0.8016 | 0.9267785
6211203820 | 0.2466 | 0.2851093
6211203830 | 0.3083 | 0.3564444
6211204400 | 0.1233 | 0.1425546
6211204815 | 0.8016 | 0.9267785
6211204835 | 0.2466 | 0.2851093
6211204860 | 0.3083 | 0.3564444
6211205400 | 0.1233 | 0.1425546
6211205810 | 0.8016 | 0.9267785
6211205820 | 0.2466 | 0.2851093
6211205830 | 0.3083 | 0.3564444
6211206400 | 0.1233 | 0.1425546
6211206810 | 0.8016 | 0.9267785
6211206820 | 0.2466 | 0.2851093
6211206830 | 0.3083 | 0.3564444
6211207400 | 0.1233 | 0.1425546
6211207810 | 0.9249 | 1.0693331
6211207820 | 0.2466 | 0.2851093
6211207830 | 0.3083 | 0.3564444
6211325003 | 0.6412 | 0.7413303
6211325007 | 0.8016 | 0.9267785
6211325010 | 0.9865 | 1.1405526
6211325015 | 0.9865 | 1.1405526
6211325025 | 0.9865 | 1.1405526
6211325030 | 0.9249 | 1.0693331
6211325040 | 0.9249 | 1.0693331
6211325050 | 0.9249 | 1.0693331
6211325060 | 0.9249 | 1.0693331
6211325070 | 0.9249 | 1.0693331
6211325075 | 0.9249 | 1.0693331
6211325081 | 0.9249 | 1.0693331
6211329003 | 0.6412 | 0.7413303
6211329007 | 0.8016 | 0.9267785
6211329010 | 0.9865 | 1.1405526
6211329015 | 0.9865 | 1.1405526
6211329025 | 0.9865 | 1.1405526
6211329030 | 0.9249 | 1.0693331
6211329040 | 0.9249 | 1.0693331
6211329050 | 0.9249 | 1.0693331
6211329060 | 0.9249 | 1.0693331
6211329070 | 0.9249 | 1.0693331
6211329075 | 0.9249 | 1.0693331
6211329081 | 0.9249 | 1.0693331
6211335003 | 0.0987 | 0.1141131
6211335007 | 0.1233 | 0.1425546
6211335010 | 0.3083 | 0.3564444
6211335015 | 0.3083 | 0.3564444
6211335017 | 0.3083 | 0.3564444
6211335025 | 0.37 | 0.4277795
6211335030 | 0.37 | 0.4277795
6211335035 | 0.37 | 0.4277795
6211335040 | 0.37 | 0.4277795
6211335054 | 0.37 | 0.4277795
6211335058 | 0.37 | 0.4277795
6211335061 | 0.37 | 0.4277795
6211339003 | 0.0987 | 0.1141131
6211339007 | 0.1233 | 0.1425546
6211339010 | 0.3083 | 0.3564444
6211339015 | 0.3083 | 0.3564444
6211339017 | 0.3083 | 0.3564444
6211339025 | 0.37 | 0.4277795
6211339030 | 0.37 | 0.4277795
6211339035 | 0.37 | 0.4277795
6211339040 | 0.37 | 0.4277795
6211339054 | 0.37 | 0.4277795
6211339058 | 0.37 | 0.4277795
6211339061 | 0.37 | 0.4277795
6211390310 | 0.1233 | 0.1425546
6211390320 | 0.1233 | 0.1425546
6211390330 | 0.1233 | 0.1425546
6211390340 | 0.1233 | 0.1425546
6211390345 | 0.1233 | 0.1425546
6211390351 | 0.1233 | 0.1425546
6211391510 | 0.2466 | 0.2851093
6211391520 | 0.2466 | 0.2851093
6211391530 | 0.2466 | 0.2851093
6211391540 | 0.2466 | 0.2851093
6211391550 | 0.2466 | 0.2851093
6211391560 | 0.2466 | 0.2851093
6211391570 | 0.2466 | 0.2851093
6211391590 | 0.2466 | 0.2851093
6211393010 | 0.1233 | 0.1425546
6211393020 | 0.1233 | 0.1425546
6211393030 | 0.1233 | 0.1425546
6211393040 | 0.1233 | 0.1425546
6211393045 | 0.1233 | 0.1425546
6211393051 | 0.1233 | 0.1425546
6211398010 | 0.2466 | 0.2851093
6211398020 | 0.2466 | 0.2851093
6211398030 | 0.2466 | 0.2851093
6211398040 | 0.2466 | 0.2851093
6211398050 | 0.2466 | 0.2851093
6211398060 | 0.2466 | 0.2851093
6211398070 | 0.2466 | 0.2851093
6211398090 | 0.2466 | 0.2851093
6211420503 | 0.6412 | 0.7413303
6211420507 | 0.8016 | 0.9267785
6211420510 | 0.9865 | 1.1405526
6211420520 | 0.9865 | 1.1405526
6211420525 | 1.1099 | 1.2832229
6211420530 | 0.8632 | 0.9979980
6211420540 | 0.9865 | 1.1405526
6211420554 | 1.1099 | 1.2832229
6211420556 | 1.1099 | 1.2832229
6211420560 | 0.9865 | 1.1405526
6211420570 | 1.1099 | 1.2832229
6211420575 | 1.1099 | 1.2832229
6211420581 | 1.1099 | 1.2832229
6211421003 | 0.6412 | 0.7413303
6211421007 | 0.8016 | 0.9267785
6211421010 | 0.9865 | 1.1405526
6211421020 | 0.9865 | 1.1405526
6211421025 | 1.1099 | 1.2832229
6211421030 | 0.8632 | 0.9979980
6211421040 | 0.9865 | 1.1405526
6211421054 | 1.1099 | 1.2832229
6211421056 | 1.1099 | 1.2832229
6211421060 | 0.9865 | 1.1405526
6211421070 | 1.1099 | 1.2832229
6211421075 | 1.1099 | 1.2832229
6211421081 | 1.1099 | 1.2832229
6211430503 | 0.0987 | 0.1141131
6211430507 | 0.1233 | 0.1425546
6211430510 | 0.2466 | 0.2851093
6211430520 | 0.2466 | 0.2851093
6211430530 | 0.2466 | 0.2851093
6211430540 | 0.2466 | 0.2851093
6211430550 | 0.2466 | 0.2851093
6211430560 | 0.2466 | 0.2851093
6211430564 | 0.3083 | 0.3564444
6211430566 | 0.2466 | 0.2851093
6211430574 | 0.3083 | 0.3564444
6211430576 | 0.37 | 0.4277795
6211430578 | 0.37 | 0.4277795
6211430591 | 0.2466 | 0.2851093
6211431003 | 0.0987 | 0.1141131
6211431007 | 0.1233 | 0.1425546
6211431010 | 0.2466 | 0.2851093
6211431020 | 0.2466 | 0.2851093
6211431030 | 0.2466 | 0.2851093
6211431040 | 0.2466 | 0.2851093
6211431050 | 0.2466 | 0.2851093
6211431060 | 0.2466 | 0.2851093
6211431064 | 0.3083 | 0.3564444
6211431066 | 0.2466 | 0.2851093
6211431074 | 0.3083 | 0.3564444
6211431076 | 0.37 | 0.4277795
6211431078 | 0.37 | 0.4277795
6211431091 | 0.2466 | 0.2851093
6211492510 | 0.2466 | 0.2851093
6211492520 | 0.2466 | 0.2851093
6211492530 | 0.2466 | 0.2851093
6211492540 | 0.2466 | 0.2851093
6211492550 | 0.2466 | 0.2851093
6211492560 | 0.2466 | 0.2851093
6211492570 | 0.2466 | 0.2851093
6211492580 | 0.2466 | 0.2851093
6211492590 | 0.2466 | 0.2851093
6211498010 | 0.2466 | 0.2851093
6211498020 | 0.2466 | 0.2851093
6211498030 | 0.2466 | 0.2851093
6211498040 | 0.2466 | 0.2851093
6211498050 | 0.2466 | 0.2851093
6211498060 | 0.2466 | 0.2851093
6211498070 | 0.2466 | 0.2851093
6211498080 | 0.2466 | 0.2851093
6211498090 | 0.2466 | 0.2851093
6212105010 | 0.9138 | 1.0564997
6212105020 | 0.2285 | 0.2641827
6212105030 | 0.2285 | 0.2641827
6212109010 | 0.9138 | 1.0564997
6212109020 | 0.2285 | 0.2641827
6212109040 | 0.2285 | 0.2641827
6212200010 | 0.6854 | 0.7924326
6212200020 | 0.2856 | 0.3301995
6212200030 | 0.1142 | 0.1320336
6212300010 | 0.6854 | 0.7924326
6212300020 | 0.2856 | 0.3301995
6212300030 | 0.1142 | 0.1320336
6212900010 | 0.1828 | 0.2113462
6212900020 | 0.1828 | 0.2113462
6212900030 | 0.1828 | 0.2113462
6212900050 | 0.0914 | 0.1056731
6212900090 | 0.4112 | 0.4754133
6213201000 | 1.1187 | 1.2933971
6213202000 | 1.0069 | 1.1641383
6213900700 | 0.4475 | 0.5173820
6213901000 | 0.4475 | 0.5173820
6213902000 | 0.3356 | 0.3880076
6214300000 | 0.1142 | 0.1320336
6214400000 | 0.1142 | 0.1320336
6214900010 | 0.8567 | 0.9904830
6214900090 | 0.2285 | 0.2641827
6215100025 | 0.1142 | 0.1320336
6215200000 | 0.1142 | 0.1320336
6215900015 | 1.0281 | 1.1886489
6216000800 | 0.0685 | 0.0791970
6216001300 | 0.3427 | 0.3962163
6216001720 | 0.6397 | 0.7395961
6216001730 | 0.1599 | 0.1848701
6216001900 | 0.3427 | 0.3962163
6216002110 | 0.578 | 0.6682609
6216002120 | 0.2477 | 0.2863810
6216002410 | 0.6605 | 0.7636442
6216002425 | 0.1651 | 0.1908821
6216002600 | 0.1651 | 0.1908821
6216002910 | 0.6605 | 0.7636442
6216002925 | 0.1651 | 0.1908821
6216003100 | 0.1651 | 0.1908821
6216003300 | 0.5898 | 0.6819036
6216003500 | 0.5898 | 0.6819036
6216003800 | 1.1796 | 1.3638073
6216004100 | 1.1796 | 1.3638073
6217109510 | 0.9646 | 1.1152327
6217109520 | 0.1809 | 0.2091495
6217109530 | 0.2412 | 0.2788660
6217909003 | 0.9646 | 1.1152327
6217909005 | 0.1809 | 0.2091495
6217909010 | 0.2412 | 0.2788660
6217909025 | 0.9646 | 1.1152327
6217909030 | 0.1809 | 0.2091495
6217909035 | 0.2412 | 0.2788660
6217909050 | 0.9646 | 1.1152327
6217909055 | 0.1809 | 0.2091495
6217909060 | 0.2412 | 0.2788660
6217909075 | 0.9646 | 1.1152327
6217909080 | 0.1809 | 0.2091495
6217909085 | 0.2412 | 0.2788660
6301300010 | 0.8305 | 0.9601916
6301300020 | 0.8305 | 0.9601916
6301900030 | 0.2215 | 0.2560896
6302100005 | 1.1073 | 1.2802169
6302100008 | 1.1073 | 1.2802169
6302100015 | 1.1073 | 1.2802169
6302213010 | 1.1073 | 1.2802169
6302213020 | 1.1073 | 1.2802169
6302213030 | 1.1073 | 1.2802169
6302213040 | 1.1073 | 1.2802169
6302213050 | 1.1073 | 1.2802169
6302215010 | 0.7751 | 0.8961402
6302215020 | 0.7751 | 0.8961402
6302215030 | 0.7751 | 0.8961402
6302215040 | 0.7751 | 0.8961402
6302215050 | 0.7751 | 0.8961402
6302217010 | 1.1073 | 1.2802169
6302217020 | 1.1073 | 1.2802169
6302217030 | 1.1073 | 1.2802169
6302217040 | 1.1073 | 1.2802169
6302217050 | 1.1073 | 1.2802169
6302219010 | 0.7751 | 0.8961402
6302219020 | 0.7751 | 0.8961402
6302219030 | 0.7751 | 0.8961402
6302219040 | 0.7751 | 0.8961402
6302219050 | 0.7751 | 0.8961402
6302221010 | 0.5537 | 0.6401662
6302221020 | 0.3876 | 0.4481279
6302221030 | 0.5537 | 0.6401662
6302221040 | 0.3876 | 0.4481279
6302221050 | 0.3876 | 0.4481279
6302221060 | 0.3876 | 0.4481279
6302222010 | 0.3876 | 0.4481279
6302222020 | 0.3876 | 0.4481279
6302222030 | 0.3876 | 0.4481279
6302290020 | 0.2215 | 0.2560896
6302313010 | 1.1073 | 1.2802169
6302313020 | 1.1073 | 1.2802169
6302313030 | 1.1073 | 1.2802169
6302313040 | 1.1073 | 1.2802169
6302313050 | 1.1073 | 1.2802169
6302315010 | 0.7751 | 0.8961402
6302315020 | 0.7751 | 0.8961402
6302315030 | 0.7751 | 0.8961402
6302315040 | 0.7751 | 0.8961402
6302315050 | 0.7751 | 0.8961402
6302317010 | 1.1073 | 1.2802169
6302317020 | 1.1073 | 1.2802169
6302317030 | 1.1073 | 1.2802169
6302317040 | 1.1073 | 1.2802169
6302317050 | 1.1073 | 1.2802169
6302319010 | 0.7751 | 0.8961402
6302319020 | 0.7751 | 0.8961402
6302319030 | 0.7751 | 0.8961402
6302319040 | 0.7751 | 0.8961402
6302319050 | 0.7751 | 0.8961402
6302321010 | 0.5537 | 0.6401662
6302321020 | 0.3876 | 0.4481279
6302321030 | 0.5537 | 0.6401662
6302321040 | 0.3876 | 0.4481279
6302321050 | 0.3876 | 0.4481279
6302321060 | 0.3876 | 0.4481279
6302322010 | 0.5537 | 0.6401662
6302322020 | 0.3876 | 0.4481279
6302322030 | 0.5537 | 0.6401662
6302322040 | 0.3876 | 0.4481279
6302322050 | 0.3876 | 0.4481279
6302322060 | 0.3876 | 0.4481279
6302390030 | 0.2215 | 0.2560896
6302402010 | 0.9412 | 1.0881786
6302511000 | 0.5537 | 0.6401662
6302512000 | 0.8305 | 0.9601916
6302513000 | 0.5537 | 0.6401662
6302514000 | 0.7751 | 0.8961402
6302593020 | 0.5537 | 0.6401662
6302600010 | 1.1073 | 1.2802169
6302600020 | 0.9966 | 1.1522299
6302600030 | 0.9966 | 1.1522299
6302910005 | 0.9966 | 1.1522299
6302910015 | 1.1073 | 1.2802169
6302910025 | 0.9966 | 1.1522299
6302910035 | 0.9966 | 1.1522299
6302910045 | 0.9966 | 1.1522299
6302910050 | 0.9966 | 1.1522299
6302910060 | 0.9966 | 1.1522299
6302931000 | 0.4429 | 0.5120636
6302932000 | 0.4429 | 0.5120636
6302992000 | 0.2215 | 0.2560896
6303191100 | 0.8859 | 1.0242429
6303910010 | 0.609 | 0.7041019
6303910020 | 0.609 | 0.7041019
6303921000 | 0.2768 | 0.3200253
6303922010 | 0.2768 | 0.3200253
6303922030 | 0.2768 | 0.3200253
6303922050 | 0.2768 | 0.3200253
6303990010 | 0.2768 | 0.3200253
6304111000 | 0.9966 | 1.1522299
6304113000 | 0.1107 | 0.1279870
6304190500 | 0.9966 | 1.1522299
6304191000 | 1.1073 | 1.2802169
6304191500 | 0.3876 | 0.4481279
6304192000 | 0.3876 | 0.4481279
6304193060 | 0.2215 | 0.2560896
6304200020 | 0.8859 | 1.0242429
6304200070 | 0.2215 | 0.2560896
6304910120 | 0.8859 | 1.0242429
6304910170 | 0.2215 | 0.2560896
6304920000 | 0.8859 | 1.0242429
6304996040 | 0.2215 | 0.2560896
6505001515 | 1.1189 | 1.2936283
6505001525 | 0.5594 | 0.6467564
6505001540 | 1.1189 | 1.2936283
6505002030 | 0.9412 | 1.0881786
6505002060 | 0.9412 | 1.0881786
6505002545 | 0.5537 | 0.6401662
6507000000 | 0.3986 | 0.4608457
9404901000 | 0.2104 | 0.2432562
9404908020 | 0.9966 | 1.1522299
9404908040 | 0.9966 | 1.1522299
9404908505 | 0.6644 | 0.7681532
9404908536 | 0.0997 | 0.1152692
9404909505 | 0.6644 | 0.7681532
9404909570 | 0.2658 | 0.3073075
9619002100 | 0.8681 | 1.0036632
9619002500 | 0.1085 | 0.1254434
9619003100 | 0.9535 | 1.1023993
9619003300 | 1.1545 | 1.3347877
9619004100 | 0.2384 | 0.2756287
9619004300 | 0.2384 | 0.2756287
9619006100 | 0.8528 | 0.9859739
9619006400 | 0.2437 | 0.2817564
9619006800 | 0.3655 | 0.4225768
9619007100 | 1.1099 | 1.2832229
9619007400 | 0.2466 | 0.2851093
9619007800 | 0.2466 | 0.2851093
9619007900 | 0.2466 | 0.2851093

* * * * *

Bruce Summers,
Administrator, Agricultural Marketing Service.

[FR Doc. 2020-19373 Filed 10-2-20; 8:45 am]

BILLING CODE P